SMALL BUSINESS ADMINISTRATION

Revision of Privacy Act System of Records

AGENCY: Small Business Administration.

ACTION: Notice of Revision of Agency's System of Records pursuant to the provisions of the Privacy Act and to open comment period.

SUMMARY: This notice provides for review and comment on the most recent major revision of the Agency's Privacy Act Systems of Records. SBA last published its complete Systems of Records on September 30, 2004, this publication will consolidate all revisions since that date. This publication will incorporate into the full text of the Systems, all changes that have been published since the 2004 publication. These include: the December 23, 2004 revision to System 20, Disaster Loan Files; June 10, 2005 revision to Systems 3, Advisory Counsel Files; in compliance with Homeland Security Presidential Directive 12, the October 2, 2006 publication of System 34, Identity Management Systems, and the August 23, 2007 publication of new routine use for all Agency Systems of Records to address the breech of personally identifiable information as recommended by the Office of Management and Budget. This notice and revision also includes the addition of two new Systems of Records proposed by the Office of the Inspector General, SBA 35—Non-Employment Related Background Checks and SBA 36—Suspension and Debarment Files. Other minor changes such as office addresses and titles have been included and System 27, formerly entitled Security and Investigations Files is renamed Employee Misconduct Files.

DATES: Written comments on the System of Records must be received on or before April 30, 2009. The notice shall be effective as proposed with or without further publication at the end of the comment period, unless comments are received which would require contrary determination.

ADDRESSES: Written comments on the System of Records should be directed to Lisa J. Babcock, Chief, Freedom of Information/Privacy Acts Office, U. S. Small Business Administration, 409 3rd Street, SW., Washington, DC 20416.

FOR FURTHER INFORMATION CONTACT: Lisa J. Babcock, Chief, Freedom of Information/Privacy Acts Office, (202) 401-8203.

SUPPLEMENTARY INFORMATION: This publication is in accordance with the Privacy Act stipulation that Agencies publish their Systems of Records in the Federal Register when there is a revision, change or addition.

Small Business Administration New Privacy Act Systems of Records; Narrative Statement Privacy Act System of Records SBA 35; Non-Employment Related Background Checks

A. Narrative Statement

1. The Small Business Administration (SBA) is adding a new system of records to the Agency's Privacy Act Systems of Records. The new system is entitled “Non-Employment Related Background Checks.” The systems consists of records that maintain information about applicants for SBA loans or other assistance or recognition, including application forms, such as SBA Form 912 and related fingerprint cards, criminal history and other records checks and correspondence concerning background. The system is maintained by SBA's Office of the Inspector General in both electronic and paper formats.

2. Refer to the following citations: 5 U.S.C. App. 3 (The Inspector General Act of 1978, as amended); 15 U.S.C. Chapters 14A and 14B, and 44 U.S.C. 3101.

3. The effect on the individual will be minimal. The information contained in the System will be viewed only by Agency personnel, contractors, experts, consultants or volunteers in the line of their official duties. These individuals must comply with the requirements of the PA of 1974, as amended, pursuant to 5 U.S.C. 552a(m). Any potential disclosures outside of the Agency will be in compliance with the routine uses of the System and will only be to individuals with a need to know.

4. Access and use of the records will be limited to specified individuals with official need to know. Records will be stored in locked file cabinets and all computers containing these records are protected by password and user identification codes. In addition, records in this system of records are exempt from the application of all provisions of section 552a except sections (b), (c)(1) and (2), (e)(4)(A) through (F), (e)(6), (7), (9), (10), (11), and (i).

5. The new proposed category of records use satisfies the compatibility requirement of subsection (a)(4) of the Act as the FOI/PA Tracking System is a “collection, or grouping of information about an individual that is maintained by an agency” and “contains his name, or the identifying number, symbol, or other identifying particular assigned to the individual.”

6. This is an internal information collection. The Agency deems the OMB approved information collection requirements unnecessary.

Small Business Administration New Privacy Act Systems of Records; Narrative Statement Privacy Act System of Records SBA 36; Suspension and Debarment Files

B. Narrative Statement

1. The Small Business Administration (SBA) is adding a new system of records to the Agency's Privacy Act Systems of Records. The new system is entitled “Suspension and Debarment Files.” The systems consists of records that maintain information Records consist of materials compiled from investigations and/or audits which identify violations which may be cause for suspension or debarment pursuant to the Federal Acquisition Regulations or the government-wide non-procurement suspension and debarment regulations. These materials include indictments, information, plea agreements, judgments, loan agreements, contract documents, etc., that pertain to an individual's or entity's participation in government contracts, SBA loan programs, and other SBA assistance.

2. Refer to the following citations: 5 U.S.C. App. 3 (the Inspector General Act of 1978, as amended); 15 U.S.C. Chapters 14A and 14B; and 44 U.S.C. 3101; 48 CFR Subpart 9.4 (procurement); 2 CFR Parts 180 and 2700 (non-procurement), and Executive Orders 12549 and 12682.

3. The effect on the individual will be minimal. The information contained in the System will be viewed only by Agency personnel, contractors, experts, consultants or volunteers in the line of their official duties. These individuals must comply with the requirements of the PA of 1974, as amended, pursuant to 5 U.S.C. 552a(m). Any potential disclosures outside of the Agency will be in compliance with the routine uses of the System and will only be to individuals with a need to know. Pursuant to 5 U.S.C. 552a(j)(2), this system of records is exempt from the application of all provisions of section 552a except sections (b), (c)(1) and (2), (e)(4)(A) through (F), (e)(6), (7), (9), (10), (11), and (i), and pursuant to 5 U.S.C. § 552(a)(k)(2) and (k)(5).

4. Access and use of the records will be limited to specified individuals with official need to know. Records will be stored in locked file cabinets and all computers containing these records are protected by password and user identification codes.

5. The new proposed category of records use satisfies the compatibility requirement of subsection (a)(4) of the Act as the FOI/PA Tracking System is a “collection, or grouping of information about an individual that is maintained by an agency” and “contains his name, or the identifying number, symbol, or other identifying particular assigned to the individual.”

6. This is an internal information collection. The Agency deems the OMB approved information collection requirements unnecessary.

Appendix A

Headquarters

409 Third St., SW., Washington, DC 20416

Boston Regional Office

10 Causeway St., Suite 812, Boston, MA 02222-1093

New York Regional Office

26 Federal Plaza, Suite 3108, New York, NY 10278

New York Regional Office

26 Federal Plaza, Suite 3108, New York, NY 10278

Philadelphia Regional Office

900 Market St., 5th Floor, Philadelphia, PA 19107

Atlanta Regional Office

233 Peachtree St., NE., South Tower, Suite 496, Atlanta, GA 30303

Chicago Regional Office

500 West Madison St., Suite 1250, Chicago, IL 60661-2511

Dallas Regional Office

4300 Amon Carter Blvd., Suite 114, Fort Worth, TX 76155

Kansas City Regional Office

323 West 8th St., Suite 307, Kansas City, MO 64105

Denver Regional Office

721 19th St., Suite 101, Denver, CO 80202

San Francisco Regional Office

455 Market St., Suite 2200, San Francisco, CA 94105

Seattle Regional Office

1200 Sixth Ave., Suite 1805, Seattle, WA 98101-1128

SBA District Offices

Region I

Maine District Office

40 Western Ave., Room 512, Augusta, ME 04330

Massachusetts District Office

10 Causeway St., Suite 265, Boston, MA 02222-1093

New Hampshire District Office

55 Pleasant St., Suite 3101, Concord, NH 03301

Connecticut District Office

330 Main St., 2nd Floor, Hartford, CT 06106

Vermont District Office

87 State St., Suite 205, Montpelier, VT 05602

Rhode Island District Office

380 Westminster Mall, 5th Floor, Providence, RI 02903

Springfield Branch Office

1441 Main St., Suite 410, Springfield, MA 01103

Region II

Buffalo District Office

111 West Huron St., Room 1311, Buffalo, NY 14202

Elmira Branch Office

333 E. Water St., 4th Floor, Elmira, NY 14901

Melville Branch Office

35 Pinelawn Road, Suite 207, Melville, NY 11747

New Jersey District Office

Two Gateway Center, 15th Floor, Newark, NJ 07102

New York District Office

26 Federal Plaza, Rm. 3108, New York, NY 10278

Puerto Rico & Virgin Islands District Office

252 Ponce De Leon Blvd., Hato Rey, Puerto Rico 00918

Rochester Branch Office

100 State Street, Suite 410, Rochester, NY 14614

Syracuse District Office

401 South Salina St., 5th Floor, Syracuse, NY 13202

St. Croix Branch Office

Sunny Isle Professional Building, Suites 5&6, Christiansted, VI 00820

St. Thomas Branch Office

3800 Crown Bay Street, St. Thomas, VI 00802

Region III

Baltimore District Office

10 S. Howard St., Suite 6220, Baltimore, MD 21201-2525

Charleston Branch Office

405 Capitol St., Suite 412, Charleston, WV 25301

West Virginia District Office

Federal Center, Suite 330, 320 West Pike St., Clarksburg, WV 26301

Harrisburg Branch Office

100 Chestnut St., Suite 107, Harrisburg, PA 17101

Philadelphia District Office

900 Market St., 5th Floor, Philadelphia, PA 19107

Pittsburgh District Office

Federal Building, Rm. 1128, 1000 Liberty Ave., Pittsburgh, PA 15222-4004

Richmond District Office

400 North 8th St., 11th Floor, Richmond, VA 23240-0126

Washington District Office

1110 Vermont Ave., NW., Suite 900, Washington, D.C. 20005

Wilkes-Barre Branch Office

7 North Wilkes-Barre Blvd., Suite 407, Wilkes-Barre, PA 18702

Delaware District Office

1318 North Market, Wilmington, DE 19801-3011

Region IV

Georgia District Office

233 Peachtree Rd., NE., Suite 1800, Atlanta, GA 30303

Alabama District Office

801 Tom Martin Dr., Suite 201, Birmingham, AL 35211

North Carolina District Office

6302 Fairview Rd., Suite 300, Charlotte, NC 28210-2227

South Carolina District Office

1835 Assembly St., Rm. 358, Columbia, SC 29201

Gulfport Branch Office

2909 13th St., Suite 203, Gulfport, MS 39501-1949

Mississippi District Office

210 E. Capitol St., Suite 210E, Jackson, MS 39201

Jacksonville—North Florida District Office

7825 Baymeadows Way., Suite 100-B, Jacksonville, FL 32256-7504

Kentucky District Office

600 Dr. M.L. King Jr. Place, Rm. 188, Louisville, KY 40202

Miami—South Florida District Office

100 S. Biscayne Blvd, 7th Floor, Miami, FL 33131

Tennessee District Office

50 Vantage Way, Suite 201, Nashville, TN 37228-1500

Region V

Illinois District Office

500 West Madison St., Chicago, IL 60661-2511

Cincinnati Branch Office

525 Vine St., Suite 870, Cincinnati, OH 45202

Cleveland District Office

1111 Superior Ave., Suite 630, Cleveland, OH 44114-2507

Columbus District Office

2 Nationwide Plaza, Suite 1400, Columbus, OH 43215-2542

Michigan District Office

477 Michigan Ave., Suite 515, Detroit, MI 48226

Indiana District Office

429 North Pennsylvania St., Suite 100, Indianapolis, IN 46204-1873

Wisconsin District Office

310 West Wisconsin Ave., Suite 400, Madison, WI 53203

Minnesota Branch Office

100 North 6th St., 210-C, Minneapolis, MI 55403

Wisconsin Branch Office

310 West Wisconsin Ave., Milwaukee, WI 53203

Minnesota District Office

100 North 6th St., Minneapolis, MN 55403-1563

Springfield Branch Office

511 W. Capitol Ave., Suite 302, Springfield, IL 62704

Region VI

New Mexico District Office

625 Silver Ave., S.W., Suite 320, Albuquerque, NM 87102

Corpus Christi Branch Office

3649 Leopard St., Suite 411, Corpus Christi, TX 78408

Dallas/Ft. Worth District Office

4300 Amon Carter Blvd., Suite 108, Dallas, TX 76155

El Paso District Office

10737 Gateways West, Suite 320, El Paso, TX 79935

Houston District Office

8701 S. Gessner Dr., Suite 1200, Houston, TX 77074

Arkansas District Office

2120 Riverfront Dr., Suite 100, Little Rock, AR 72202

Lower Rio Grande Valley District Office

222 E. Van Buren St., Rm. 500, Harlingen, TX 78550-6855

Lubbock District Office

1205 Texas Ave., Suite 408, Lubbock, TX 79401-2693

New Orleans District Office

365 Canal St., Suite 2820, New Orleans, LA 70130

Oklahoma District Office

301 Northwest 6th St., Suite 116, Oklahoma City, OK 73102

San Antonio District Office

727 E. Durango Blvd., 5th Floor, San Antonio, TX 78206

Region VII

Cedar Rapids Branch Office

215 4th Ave. S.E., Suite 200, Cedar Rapids, IA 52401-1806

Des Moines District Office

210 Walnut St., Room 749, Des Moines, IA 50309-2186

Kansas City District Office

323 West 8th Ave., Suite 501, Kansas City, MO 64105-1500

Nebraska District Office

11145 Mill Valley Rd., Omaha, NB 68154

Springfield Branch Office

830 East Primrose, Suite 101, Springfield, MO 65807-52540

St. Louis District Office

815 Olive Street, St. Louis, MO 63101

Wichita District Office

271 West Third St., Suite 2500, Wichita, KS 67202-1212

Region VIII

Wyoming District Office

100 East B Street, Rm. 4001, Casper, WY 82601

Denver District Office

721 19th St., Suite 426, Denver, CO 80202

North Dakota District Office

657 Second Ave. North, Room 219, Fargo, ND 58108

Montana District Office

10 West 15th St., Suite 1100, Helena, MT 59626

Utah District Office

125 South State St., Room 2237, Salt Lake City, UT 84138

South Dakota District Office

2329 North Career Ave., Suite 105, Sioux Falls, SD 57107

Region IX

Agana Branch Office

400 Route 8, Suite 302, Hagatna, GU 96910-2003

Fresno District Office

2719 North Air Fresno Dr., Suite 200, Fresno, CA 93727-1547

Hawaii District Office

300 Ala Moana Blvd., Rm. 2-235, Honolulu, HI 96850-4981,

Nevada District Office

300 Las Vegas Blvd., Suite 110, Las Vegas, NV 89101

Los Angeles District Office

330 North Brand Blvd., Suite 1200, Glendale, CA 91203-2304

Arizona District Office

2828 North Central Ave., Suite 800, Phoenix, AZ 85004-1025

Sacramento District Office

650 Capital Mall, Suite 7-500, Sacramento, CA 95814-2413

San Diego District Office

550 West C St., Suite 550, San Diego, CA 92101-3500

San Francisco District Office

455 Market St., 6th Floor, San Francisco, CA 94105-2445

Santa Ana District Office

200 West Santa Ana Blvd., Suite 700, Santa Ana, CA 92701

Region X

Alaska District Office

50 L St., Suite 310, Anchorage, AK 99501

Boise District Office

380 East Parkcenter Blvd., Boise, ID 83706

Portland District Office

1515 S.W. 5th Ave., Suite 1050, Portland, OR 97201-5494

Seattle District Office

1200 6th Ave., Rm. 1700, Seattle, WA 98101-1128

Spokane Branch Office

801 West Riverside, Suite 200, Spokane, WA 99201

Spokane District Office

801 West Riverside Ave., Suite 200, Spokane, WA 99201-0901

SBA Disaster Loan Making Centers

DCMS Operations Center

13221 Woodland Park Rd., Herndon, VA 20174

Disaster Assistance Customer Service Center

130 S. Elmwood Avenue, Buffalo, NY 14202

Disaster Field Operations Center—East

101 Marietta Street, Suite 700, Atlanta, GA 30303

Disaster Loan Processing and Disbursement Center

14925 Kingsport Rd., Fort Worth, TX 76155-2243

Disaster Field Operations Center—West

P.O. Box 419004, Sacramento, CA 95841-9004, or 6501 Sylvan Rd., Citrus Heights, CA 95610-5017

Disaster Personnel and Administrative Services Center

13221 Woodland Park Rd., Herndon, VA 20174

Field Inspection Team

13221 Woodland Park Rd., Herndon, VA 20174

SBA Home Loan Servicing Centers

Birmingham Home Loan Servicing Center

2121 8th Ave. North, Suite 200, P.O. Box 12247, Birmingham, AL 35202-2247

New York Home Loan Servicing Center

201 Varick St., Rm. 628, New York, NY 10014

El Paso Home Loan Servicing Center

10737 Gateway West, Suite 300, El Paso, TX 79935

Santa Ana Loan Servicing & Liquidation Office

200 W. Santa Ana Blvd., Santa Ana, CA 92701

Commercial Loan Servicing Centers

Fresno Commercial Loan Servicing Center

2719 N. Fresno Dr., Suite 107, Fresno, CA 93727-1547

Little Rock Commercial Loan Servicing Center

2120 Riverfront Dr., Suite 100, Little Rock, AR 72202

Office of the Inspector General

Office of Inspector General

409 Third Street, SW., Washington, DC 20416

Office of Inspector General Investigation Division

409 Third Street, SW., Washington, DC 20416

Office of Inspector General Auditing Division

409 Third Street, SW., Washington, DC 20416

Office of Inspector General Counsel Division

409 Third Street, SW., Washington, DC 20416

Office of Inspector General Management & Policy Division

409 Third Street, SW., Washington, DC 20416

Atlanta Inspector General Auditing Division

233 Peachtree St., NE., Suite 1803, Atlanta, GA 30303

Dallas/Fort Worth Inspector General Auditing

4300 Amon Carter Blvd., Suite 116, Fort Worth, TX 76155

Los Angeles Inspector General Auditing Division

330 North Brand Blvd., Suite 660, Glendale, CA 91203-2304

Atlanta Inspector General Investigations Division

233 Peachtree St., NE., Suite 1802, Atlanta, GA 30303

Chicago Inspector General Investigations Division

801 Warrenville Road, Suite 230, Lisle Chicago, IL 60532

Dallas/Fort Worth Inspector General Investigations Division

4300 Amon Carter Blvd., Suite 116, Fort Worth, TX 76155-2653

Detroit Inspector General Investigations Division

477 Michigan Avenue, Suite 515, Detroit, MI 48266

Houston Inspector General Investigations Division

8701 South Gessnar Drive, Suite 1200, Houston, TX 77074

Kansas City Inspector General Investigations Division

1000 Walnut Street, Suite 510, Kansas City, MO 64106

Los Angeles Inspector General Investigation Division

330 North Brand Blvd., Suite 850, Glendale, CA 91203-2304

Miami Inspector General Investigations Division

Claude Pepper Federal Building, 51 SW 1st Avenue, Suite 1325, Miami, FL 33130

New Orleans Inspector General Auditing Division and Investigations Divisions

365 Canal Street, Suite 2420, New Orleans, LA 70130

New York Inspector General Investigations Division

26 Federal Plaza, Rm. 41-100, New York, NY 10278

Philadelphia Inspector General Investigations Division

Curtis Center Room 860W, 601 Walnut Street, Philadelphia, PA 19106

Tacoma Inspector General Investigations Division

33400 9th Avenue, Federal Way, WA 98003

Table of Contents

SBA 1—Administrative Claims

SBA 2—Administrator's Executive Secretariat Files

SBA 3—Advisory Council Files

SBA 4—Office of Inspector General Records Other Than Investigations Records

SBA 5—Business and Community Initiatives Resource Files

SBA 6—Civil Rights Compliance Files

SBA 7—Combined Federal Campaign

SBA 8—Correspondence and Inquiries

SBA 9—Cost Allocation Data System

SBA 10—Employee Identification Card Files

SBA 11—Entrepreneurial Development-Management Information System

SBA 12—Equal Employment Opportunity Pre-Complaint Counseling

SBA 13—Equal Employment Opportunity Complaint Cases

SBA 14—Freedom of Information/Privacy Act Records

SBA 15—Grievance and Appeals Files

SBA 16—Investigative Files

SBA 17—Investigations Division Management Information System

SBA 18—Legal Work Files on Personnel Cases

SBA 19—Litigation and Claims Files

SBA 20—Disaster Loan Case Files

SBA 21—Loan System

SBA 22—Outside Employment Files

SBA 23—Payroll Files

SBA 24—Personnel Security Files

SBA 25—Portfolio Review Files

SBA 26—Power of Attorney Files

SBA 27—Employee Misconduct Files

SBA 28—Small Business Persons and Advocate Awards

SBA 29—Standards of Conduct

SBA 30—Servicing and Contracts System/Minority Enterprise Development Headquarters Repository

SBA 31—Temporary Disaster Employee Files

SBA 32—Tort Claims

SBA 33—Travel Files

SBA 34—Identity Management System

SBA 35—Non-Employment Related Background Checks

SBA 36—Suspension and Debarment Files

SBA 1

SYSTEM NAME:

ADMINISTRATIVE CLAIMS—SBA 1

SYSTEM LOCATION:

Headquarters (HQ) and Field Offices. Records of claims up to $5,000 are in District Offices, claims more than $5,000 are in the Office of General Counsel.

CATEGORIES OF INDIVIDUALS COVERED BY THE SYSTEM INCLUDES:

Individuals involved in accidents or other incidents of loss or damage to government property.

CATEGORIES OF RECORDS IN THE SYSTEM:

Report and supporting materials compiled in cases of loss or damage to government property.

AUTHORITY FOR MAINTENANCE OF THE SYSTEM:

15 U.S.C. 634(b)(1), 28 CFR 14.11.

ROUTINE USES OF RECORDS MAINTAINED IN THE SYSTEM, INCLUDING CATEGORIES OF USERS AND THE PURPOSES OF SUCH USES, THESE RECORDS MAY BE USED, DISCLOSED OR REFERRED:

a. To the General Services Administration, the court and other parties in litigation, when a suit has been initiated.

b. To a Congressional office from an individual's record, when that office is inquiring on the individual's behalf; the Member's access rights are no greater than the individual's.

c. To SBA volunteers, contractors, interns, grantees, experts and who have been engaged by SBA to assist in the performance of a service related to this system of records and who need access to the records in order to perform this activity. Recipients of these records shall be required to comply with the requirements of the Privacy Act of 1974, as amended, 5 U.S.C. § 552a.

d. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

e. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

f. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORING, RETRIEVING, ACCESSING, RETAINING AND DISPOSING OF RECORDS:

STORAGE:

Paper and electronic files.

RETRIEVAL:

By name of involved individual(s).

SAFEGUARDS:

Access and use is limited to persons with official need to know; computers are protected by password and user identification codes.

RETENTION AND DISPOSAL:

In accordance with National Archives and Records Administration General Records Schedule 6.10.

SYSTEM MANAGER(S) AND ADDRESS:

HQ and Field Systems Managers. See Appendix A.

NOTIFICATION PROCEDURE:

Individuals may make record inquiries in person or in writing to the Systems Manager or PA Officer.

ACCESS PROCEDURES:

Systems Manager or PA Officer will determine procedures.

CONTESTING PROCEDURES:

Notify officials listed above and state reason(s) for contesting and proposed amendment(s) sought.

SOURCE CATEGORIES:

Involved individuals, witnesses and Agency investigation.

SBA 2

SYSTEM NAME:

ADMINISTRATOR'S EXECUTIVE SECRETARIAT FILES—SBA 2

SYSTEM LOCATION:

Headquarters (HQ). See Appendix A.

CATEGORIES OF INDIVIDUALS COVERED BY THE SYSTEM INCLUDES:

Individuals who have corresponded with SBA Administrator.

CATEGORIES OF RECORDS IN THE SYSTEM:

Correspondence in Controlled Documents System from October 1, 1987.

AUTHORITY FOR MAINTENANCE OF THE SYSTEM:

15 U.S.C. 634(b)(6), 44 U.S.C. 3101.

ROUTINE USES OF RECORDS MAINTAINED IN THE SYSTEM, INCLUDING CATEGORIES OF USERS AND THE PURPOSES OF SUCH USES, THESE RECORDS MAY BE USED, DISCLOSED OR REFERRED:

a. To oversee and maintain Agency correspondence with Government officials, Members of Congress, and the public.

b. To oversee and maintain memoranda or documents detailing policy and operational decisions made by the Administrator.

c. To a Congressional office from an individual's record, when that office is inquiring on the individual's behalf; the Member's access rights are no greater than the individual's.

d. To SBA volunteers, contractors, interns, grantees, experts and who have been engaged by SBA to assist in the performance of a service related to this system of records and who need access to the records in order to perform this activity. Recipients of these records shall be required to comply with the requirements of the Privacy Act of 1974, as amended, 5 U.S.C. 552a.

e. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

f. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

g. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORING, RETRIEVING, ACCESSING, RETAINING AND DISPOSING OF RECORDS:

STORAGE:

Paper and electronic files.

RETRIEVAL:

By document number, name, subject, keyword, phrase, date, constituent and organizational name.

SAFEGUARDS:

Access and use is limited to persons with official need to know; computers are protected by password and user identification codes.

RETENTION AND DISPOSAL:

In accordance with Standard Operating Procedure 00 41 2 00:01.

SYSTEM MANAGER(S) AND ADDRESS:

Executive Secretariat, HQ. See Appendix A.

NOTIFICATION PROCEDURES:

Individuals may make record inquiries in person or in writing to the Systems Manager or PA Officer.

ACCESS PROCEDURES:

Systems Manager or PA Officer will determine procedures.

CONTESTING PROCEDURES:

Notify officials listed above and state reason(s) for contesting and proposed amendment(s) sought.

SOURCE CATEGORIES:

Correspondence, memoranda authors, and other sources that communicate with SBA's Administrator.

SBA 3

SYSTEM NAME:

ADVISORY COUNCIL FILES—SBA 3

SYSTEM LOCATION:

Headquarters (HQ). See Appendix A.

CATEGORIES OF INDIVIDUALS COVERED BY THE SYSTEM INCLUDES:

Current and former members on SBA's federal advisory councils.

CATEGORIES OF RECORDS IN THE SYSTEM INCLUDES:

Completed SBA Forms 898 of individuals nominated to serve as members on SBA's federal advisory councils. The completed forms contain personal and business contact information, birthplace and date of birth, and information on the current status or history of application for SBA assistance or actual receipt of it and may also contain nominees' professional resumes and other correspondence.

AUTHORITY FOR MAINTENANCE OF THE SYSTEM:

15 U.S.C. 637(b)(13), 648(i)(1), 657(c), Section 203, 7510-10; Pub. L. 106-50; and 44 U.S.C. 3101.

ROUTINE USES OF RECORDS MAINTAINED IN THE SYSTEM, INCLUDING CATEGORIES OF USERS AND THE PURPOSES OF SUCH USES, THESE RECORDS MAY BE USED, DISCLOSED OR REFERRED:

a. Appointed liaisons in SBA program offices, include but not limited to: Office of Government Contracting; Investment Division; Office of Financial Assistance; Office of Procurement and Grants Management; Office of the Inspector General; Office of Strategic Alliances; and Office of General Counsel. The purpose of the disclosure is to facilitate the performance of the appointed liaisons' duty to determine whether the program office has any information pertaining to a past or current relationship between the nominee and SBA and to provide such information to SBA's Committee Management Officer who vets nominees for conflict of interest or the appearance of conflict of interest in accordance with SOP 90 54 4, Chapter 7.

b. To a Congressional office from an individual's record, when that office is inquiring on the individual's behalf; the Member's access rights are no greater than the individual's.

c. To SBA volunteers, contractors, interns, grantees, experts and who have been engaged by SBA to assist in the performance of a service related to this system of records and who need access to the records in order to perform this activity. Recipients of these records shall be required to comply with the requirements of the Privacy Act of 1974, as amended, 5 U.S.C. 552a.

d. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

e. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

f. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORING, RETRIEVING, ACCESSING, RETAINING AND DISPOSING OF RECORDS:

STORAGE:

Paper and electronic files.

RETRIEVAL:

Records are organized according to advisory council and retrieved by the name of the current and former member.

SAFEGUARDS:

Access to SBA Headquarters is controlled and monitored by security personnel. Access to SBA program offices is limited to SBA employees with key cards and records are maintained in a locked room. Access is limited to persons with official need to know; computers are protected by password and user identification codes.

RETENTION AND DISPOSAL:

Permanent records are maintained for 2 years and then transferred to the Federal Records Center in accordance with SOP 00 41 2, Appendix 24, 95:01.

SYSTEM MANAGER(S) AND ADDRESS:

Committee Management Officer, Office of Administration, HQ. See Appendix A.

NOTIFICATION PROCEDURE:

Individuals may make record inquiries in person or in writing to the Systems Manager or PA Officer.

ACCESS PROCEDURES:

Systems Manager or PA Officer will determine procedures.

CONTESTING PROCEDURES:

Notify officials listed above and state reason(s) for contesting and proposed amendment(s) sought.

SOURCE CATEGORIES:

Record subject, Congressional offices, Agency employees, media, Advisory Council members, Federal Register.

SBA 4

SYSTEM NAME:

OFFICE OF INSPECTOR GENERAL RECORDS OTHER THAN INVESTIGATIONS RECORDS—SBA 4

SYSTEM LOCATION:

Office of the Inspector General (OIG) Investigations Division, Audit Division, Headquarters duty stations, Agency District and Field Offices and Federal Records Center. See Appendix A.

CATEGORIES OF INDIVIDUALS COVERED BY THE SYSTEM INCLUDES:

OIG staff, parties requesting OIG action, interviewees, persons examined by an OIG inquiry and persons providing information used by OIG staff, applicants to, and participants in SBA programs, their principals, representatives and resource partners; contractors and parties to cooperative agreements and their principals, representatives, and other interested parties; governmental entities; SBA employees, volunteers supporting SBA, including but not limited to members of the Advisory Councils and Service Corps of Retired Executive and in connection with allegations of wrongdoing or inefficiency within the jurisdiction of the OIG.

CATEGORIES OF RECORDS IN THE SYSTEM INCLUDES:

Material provided to, gathered or created by OIG in auditing, or otherwise dealing with allegations that are within the jurisdiction of the OIG, documentation of allegations, consultations, decisions, interviews, records reviews, audits, evaluations, and other non-audit services, and various correspondence, etc.

AUTHORITY FOR MAINTENANCE OF THE SYSTEMS:

5 U.S.C. App. 3 (The Inspector General Act of 1978, as amended); 15 U.S.C. Chapters 14A and 14B; and 44 U.S.C. 3101.

ROUTINE USES OF RECORDS MAINTAINED IN THE SYSTEM, INCLUDING CATEGORIES OF USERS AND THE PURPOSES OF SUCH USES, THESE RECORDS MAY BE USED, DISCLOSED OR REFERRED:

a. To the Federal, State, local or foreign agency or professional organization which investigates, prosecutes or enforces violations, statutes, rules, regulations or orders issued when the Agency identifies a violation or potential violation of law whether arising by general or program statute, or by regulation, rule or order.

b. To a court, magistrate, grand jury or administrative tribunal, or opposing counsel during trials, hearings or in settlement negotiations.

c. To any private or governmental source or person, in order to secure information relevant to an investigation, audit or other evaluation.

d. To other Federal agencies conducting background checks, to the extent that the information is relevant to their function.

e. To any domestic, foreign, international or private agency or organization, including those which maintain civil, criminal or other enforcement information, for the assignment, hiring or retention of an individual, issuance of a security clearance, reporting of an investigation of an individual, letting of a contract or issuance of a license, grant or other benefit, to the extent the information is relevant to the agency's decision on the matter.

f. To Federal, State or local bar associations and other professional, regulatory or disciplinary bodies for use in disciplinary proceedings and inquiries.

g. To a Congressional office from an individual's record, when that office is inquiring on the individual's behalf; the Member's access rights are no greater than the individual's.

h. To the Office of Government Ethics for any purpose consistent with their mission.

i. To the Government Accountability Office and to the General Services Administration's Board of Contract Appeals in bid protest cases involving an agency procurement.

j. To any Federal agency which has the authority to subpoena other Federal agencies' records and has issued a valid subpoena.

k. To the Department of the Treasury and the Department of Justice (DOJ) in support of an ex parte court order to obtain taxpayer information from the Internal Revenue Service.

l. To debt collection contractors for collecting delinquent debts as authorized by the Debt Collection Act of 1982, 31 U.S.C. 3718.

m. To a grand jury agent pursuant to a Federal or State grand jury subpoena or to a prosecution request that records be introduced to a grand jury.

n. To DOJ to obtain advice regarding FOIA disclosure obligations.

o. To the Office of Management and Budget to obtain advice regarding PA obligations.

p. To SBA volunteers, contractors, interns, grantees, experts and who have been engaged by SBA to assist in the performance of a service related to this system of records and who need access to the records in order to perform this activity. Recipients of these records shall be required to comply with the requirements of the Privacy Act of 1974, as amended, 5 U.S.C. 552a.

q. To DOJ when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

r. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

s. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

t. To members of the President's Council on Integrity and Efficiency, DOJ or other agencies for the purpose of conducting qualitative reviews of SBA OIG operations for the preparation of reports to the President and Congress on the activities of the Inspectors General, and for other uses in furtherance of the Inspector General Act of 1978, as amended.

u. To the public when the matter under investigation has become public knowledge, or when the IG determines that such disclosure is necessary to preserve confidence in the integrity of the OIG investigative process, or to demonstrate the accountability of SBA employees, or other individuals covered by this system, or when there exists a legitimate public interest unless the IG determines that disclosure of the specific information in the context of a particular case would constitute an unwarranted invasion of personal privacy.

v. To inform complainants, victims, and witnesses of the results of an investigation or inquiry.

w. To a Federal agency responsible for considering administrative action, including debarment or suspension.

POLICIES AND PRACTICES FOR STORING, RETRIEVING, ACCESSING, RETAINING AND DISPOSING OF RECORDS:

STORAGE:

Paper and electronic files.

RETRIEVAL:

By name and cross-referenced to related IG audit files and non-audit services or reviews.

SAFEGUARDS:

Sensitive reports are kept in locked filing cabinets, while others are provided lesser levels of security as appropriate.

RETENTION AND DISPOSAL:

Following final agency action, records are maintained in accordance with SBA SOP 00 41.

SYSTEM MANAGER(S) AND ADDRESS:

Assistant Inspector General for Auditing or designee. See Appendix A.

NOTIFICATION PROCEDURES:

Individuals may make record inquiries in person or in writing to the Systems Manager or PA Officer.

ACCESS PROCEDURES:

Systems Manager or PA Officer will determine procedures.

CONTESTING PROCEDURES:

Notify officials listed above and state reason(s) for contesting and proposed amendment(s) sought.

SOURCE CATEGORIES:

Subject individuals, Agency personnel, third parties, and other Government agencies, such as the Federal Bureau of Investigation.

SYSTEMS EXEMPTED FROM CERTAIN PROVISIONS OF THE ACT:

(1) Pursuant to 5 U.S.C. 552a(j)(2), this system of records is exempt from the application of all provisions of section 552a except sections (b), (c)(1) and (2), (e)(4)(A) through (F), (e)(6), (7), (9), (10), (11), and (i), to the extent that it consists of (A) information compiled for the purpose of identifying individual criminal offenders and alleged offenders and consisting only of identifying data and notations of arrests, confinement, release, and parole and probation status; (B) information compiled for the purpose of criminal investigation, including reports of informants and investigators, and associated with an identifiable individual; or (C) reports identifiable to an individual compiled at any stage of the process of enforcement of the criminal laws from arrest or indictment through release from supervision. This system is exempted in order to maintain the efficacy and integrity of the OIG's criminal law enforcement function.

(2) Pursuant to 5 U.S.C. 552(a)(k)(2) and (k)(5), all investigatory material in the record compiled for law enforcement purposes or for the purpose of determining suitability, eligibility, or qualifications for Federal civilian employment, Federal contracts, or access to classified information is exempt from the notification, access, and contest requirements under 5 U.S.C. 552a (c)(3), (d), (e)(1), (e)(4) (G), (H), and (I), and (f) of the Agency regulations. This exemption is necessary in order to fulfill commitments made to protect the confidentiality of sources and to protect subjects of investigations from frustrating the investigatory process.

SBA 5

SYSTEM NAME:

BUSINESS AND COMMUNITY INITIATIVES RESOURCE FILES—SBA 5

SYSTEM LOCATION:

Headquarters (HQ) and Field Offices. See Appendix A.

CATEGORIES OF INDIVIDUALS COVERED BY THE SYSTEM INCLUDES:

Users of Business and Community Initiatives training materials, potential speakers, counselors, authors and reviewers.

CATEGORIES OF RECORDS IN THE SYSTEM INCLUDES:

Information relating to individuals: biographical sketches, correspondence, copies of travel vouchers and counseling reports, files of accomplishments, publications, news releases and clippings.

AUTHORITY FOR MAINTENANCE OF THE SYSTEM:

5 U.S.C. 634(b)(6), 44 U.S.C. 3101.

ROUTINE USES OF RECORDS MAINTAINED IN THE SYSTEM, INCLUDING CATEGORIES OF USERS AND THE PURPOSES OF SUCH USES, THESE RECORDS MAY BE USED, DISCLOSED OR REFERRED:

a. To provide university coordinators with information about potential speakers at management training sessions.

b. To a Congressional office from an individual's record, when that office is inquiring on the individual's behalf; the Member's access rights are no greater than the individual's.

c. To SBA volunteers, contractors, interns, grantees, experts and who have been engaged by SBA to assist in the performance of a service related to this system of records and who need access to the records in order to perform this activity. Recipients of these records shall be required to comply with the requirements of the Privacy Act of 1974, as amended, 5 U.S.C. 552a.

d. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

e. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

f. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORING, RETRIEVING, ACCESSING, RETAINING AND DISPOSING OF RECORDS:

STORAGE:

Paper and electronic files.

RETRIEVAL:

By name.

SAFEGUARDS:

Access and use is limited to persons with official need to know; computers are protected by password and user identification codes.

RETENTION AND DISPOSAL:

In accordance with Standard Operating Procedure 00 41 2 65:01, 65:02, 65:03, 65:04, 65:05, 65:07 and 65:09.

SYSTEM MANAGER(S) AND ADDRESS:

Field Office Director and PA Officer. See Appendix A.

NOTIFICATION PROCEDURE:

Individuals may make record inquiries in person or in writing to the Systems Manager or PA Officer.

ACCESS PROCEDURES:

Systems Manager or PA Officer will determine procedures.

CONTESTING PROCEDURES:

Notify officials listed above and state reason(s) for contesting and proposed amendment(s) sought.

SOURCE CATEGORIES:

Record subject, Agency employees, media, educators, universities, professional and civic organizations.

SBA 6

SYSTEM NAME:

CIVIL RIGHTS COMPLIANCE FILES—SBA 6

SYSTEM LOCATION:

Headquarters. See Appendix A.

CATEGORIES OF INDIVIDUALS COVERED BY THE SYSTEM INCLUDES:

SBA recipients of Federal financial assistance and individuals who have filed allegations of discrimination against SBA recipients of Federal financial assistance or against Agency programs or program offices based on disability.

CATEGORIES OF RECORDS IN THE SYSTEM INCLUDES:

Reviews, correspondence, supporting documents, interview statements, program files, information developed in allegation/complaint investigation.

AUTHORITY FOR MAINTENANCE OF THE SYSTEM:

44 U.S.C. 3101, Civil Rights Compliance SOP 90 30 3 and 13 CFR Parts 112, 113, and 117.

ROUTINE USES OF RECORDS MAINTAINED IN THE SYSTEM, INCLUDING CATEGORIES OF USERS AND THE PURPOSES OF SUCH USES, THESE RECORDS MAY BE USED, DISCLOSED OR REFERRED:

a. To a Congressional office from an individual's record, when that office is inquiring on the individual's behalf; the Member's access rights are no greater than the individual's.

b. To SBA volunteers, contractors, interns, grantees, experts and who have been engaged by SBA to assist in the performance of a service related to this system of records and who need access to the records in order to perform this activity. Recipients of these records shall be required to comply with the requirements of the Privacy Act of 1974, as amended, 5 U.S.C. 552a.

c. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

d. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

e. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORING, RETRIEVING, ACCESSING, RETAINING AND DISPOSING OF RECORDS:

STORAGE:

Paper and electronic files.

RETRIEVAL:

By complainant's name, address and four digit fiscal year/order in which received during that fiscal year (four digit number is keyed to Complaint Log for that fiscal year).

SAFEGUARDS:

Access and use is limited to persons with official need to know; computers are protected by password and user identification codes.

RETENTION AND DISPOSAL:

In accordance with National Archives and Records Administration General Records Schedule 1.25.a and d(2).

SYSTEM MANAGER(S) AND ADDRESS:

Assistant Administrator for Equal Employment Opportunity and Civil Rights Compliance (EEO/CRC). See Appendix A.

NOTIFICATION PROCEDURE:

Individuals may make record inquiries in person or in writing to the Systems Manager or PA Officer.

ACCESS PROCEDURES:

Systems Manager or PA Officer will determine procedures.

CONTESTING PROCEDURES:

Notify officials listed above and state reason(s) for contesting and proposed amendment(s) sought.

SOURCE CATEGORIES:

SBA recipient of Federal financial assistance reviewed by EEO/CRC personnel and complainants.

SBA 7

SYSTEM NAME:

COMBINED FEDERAL CAMPAIGN—SBA 7

SYSTEM LOCATION:

Headquarters (HQ) Office and Field Offices. See Appendix A.

CATEGORIES OF INDIVIDUALS COVERED BY THE SYSTEM:

SBA employees.

CATEGORIES OF RECORDS IN THE SYSTEM INCLUDES:

Information pertaining to SBA employees involved with the campaign.

AUTHORITY FOR MAINTENANCE OF THE SYSTEM:

15 U.S.C. 634(b)(6), 44 U.S.C. 3101.

ROUTINE USES OF RECORDS MAINTAINED IN THE SYSTEM, INCLUDING CATEGORIES OF USERS AND THE PURPOSES OF SUCH USES, THESE RECORDS MAY BE USED, DISCLOSED OR REFERRED:

a. To the public, the names and addresses of employees connected with the drive are released.

b. To a Congressional office from an individual's record, when that office is inquiring on the individual's behalf; the Member's access rights are no greater than the individual's.

c. To SBA volunteers, contractors, interns, grantees, experts and who have been engaged by SBA to assist in the performance of a service related to this system of records and who need access to the records in order to perform this activity. Recipients of these records shall be required to comply with the requirements of the Privacy Act of 1974, as amended, 5 U.S.C. 552a.

d. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

e. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

f. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORING, RETRIEVING, ACCESSING, RETAINING AND DISPOSING OF RECORDS:

STORAGE:

Paper and electronic files.

RETRIEVAL:

By name and/or Social Security Number.

SAFEGUARDS:

Access and use is limited to persons with official need to know; computers are protected by password and user identification codes.

RETENTION AND DISPOSAL:

In accordance with National Archives and Records Administration General Record Schedule 2.15.

SYSTEM MANAGER(S) AND ADDRESS:

HQ and Field Office Supervisors. See Appendix A.

NOTIFICATION PROCEDURE:

Individuals may make record inquiries in person or in writing to the Systems Manager or PA Officer.

ACCESS PROCEDURES:

Systems Manager or PA Officer will determine procedures.

CONTESTING PROCEDURES:

Notify officials listed above and state reason(s) for contesting and proposed amendment(s) sought.

SOURCE CATEGORIES:

Subject employee.

SBA 8

SYSTEM NAME:

CORRESPONDENCE AND INQUIRIES—SBA 8

SYSTEM LOCATION:

Headquarters (HQ) and Field Offices. See Appendix A.

CATEGORIES OF INDIVIDUALS COVERED BY THE SYSTEM INCLUDES:

Individuals who have corresponded with the Agency.

CATEGORIES OF RECORDS IN THE SYSTEM INCLUDES:

Correspondence.

AUTHORITY FOR MAINTENANCE OF THE SYSTEM:

15 U.S.C. 634(b)(6), 44 U.S.C. 3101.

ROUTINE USES OF RECORDS MAINTAINED IN THE SYSTEM, INCLUDING CATEGORIES OF USERS AND THE PURPOSES OF SUCH USES, THESE RECORDS MAY BE USED, DISCLOSED OR REFERRED:

a. To oversee and maintain correspondence to the Agency.

b. To a Congressional office from an individual's record, when that office is inquiring on the individual's behalf; the Member's access rights are no greater than the individual's.

c. To SBA volunteers, contractors, interns, grantees, experts and who have been engaged by SBA to assist in the performance of a service related to this system of records and who need access to the records in order to perform this activity. Recipients of these records shall be required to comply with the requirements of the Privacy Act of 1974, as amended, 5 U.S.C. 552a.

d. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

e. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

f. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORING, RETRIEVING, ACCESSING, RETAINING AND DISPOSING OF RECORDS:

STORAGE:

Paper and electronic files.

RETRIEVAL:

By name of correspondent.

SAFEGUARDS:

Access and use is limited to persons with official need to know; computers are protected by password and user identification codes.

RETENTION AND DISPOSAL:

In accordance with Standard Operating Procedure 00 41 2 00:01.

SYSTEM MANAGER(S) AND ADDRESS:

PA Officer for HQ records and Field Managers for field records. See Appendix A.

NOTIFICATION PROCEDURES:

Individuals may make record inquiries in person or in writing to the Systems Manager or PA Officer.

ACCESS PROCEDURES:

Systems Manager or PA Officer will determine procedures.

CONTESTING PROCEDURES:

Notify officials listed above and state reason(s) for contesting and proposed amendment(s) sought.

SOURCE CATEGORIES:

Subject individual, Agency personnel, case files and Congressional correspondence.

SBA 9

SYSTEM NAME:

COST ALLOCATION DATA SYSTEM—9

SYSTEM LOCATION:

Office of the Chief Financial Officer (CFO), Headquarters.

CATEGORIES OF INDIVIDUALS COVERED BY THE SYSTEM INCLUDES:

All SBA employees.

CATEGORIES OF RECORDS IN THE SYSTEM INCLUDES:

Individual information on SBA employees, i.e., name, social security number, office code, pay dates, survey results on the percentage of time spent on administration of various SBA programs and activities. Agency-wide costs, i.e., rent, postage, telecommunications, centralized printing and training, employees' relocation costs, credit report costs, performance management appraisal system awards, contractors costs, Agency loan count and SBA employment full time equivalent counts.

AUTHORITY FOR MAINTENANCE OF THE SYSTEM:

44 U.S.C. 3101 (Records Management by Federal Agencies), Public Law 101-576 (Chief Financial Officers Act) and Public Law 103-62 (Government Performance and Results Act).

ROUTINE USES OF RECORDS MAINTAINED IN THE SYSTEM, INCLUDING CATEGORIES OF USERS AND THE PURPOSES OF SUCH USES, THESE RECORDS MAY BE USED, DISCLOSED OR REFERRED:

a. To the Agency cost contractor for use in the Agency's cost accounting activity.

b. To a Congressional office from an individual's record, when that office is inquiring on the individual's behalf; the Member's access rights are no greater than the individual's.

c. To SBA volunteers, contractors, interns, grantees, experts and who have been engaged by SBA to assist in the performance of a service related to this system of records and who need access to the records in order to perform this activity. Recipients of these records shall be required to comply with the requirements of the Privacy Act of 1974, as amended, 5 U.S.C. 552a.

d. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government,where SBA determines that litigation is likely to affect SBA or any of its components.

e. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government,where SBA determines that litigation is likely to affect SBA or any of its components.

f. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORING, RETRIEVING, ACCESSING, RETAINING AND DISPOSING OF RECORDS:

STORAGE:

The electronic form is maintained in a database which is behind the Agency's firewall.

RETRIEVABILITY:

Employee's Social Security Number and first and last name retrieve survey result.

SAFEGUARDS:

Access and use of the CADS are accomplished via the use of restricted password. Access and use are limited to Project Leader and Group members and only those other Agency employees whose official duties require such access.

RETENTION AND DISPOSAL:

In accordance with National Archives and Records Administration General Records Retention Schedule 8.1, 8.5, 8.6, 8.7 and 8.8.

SYSTEM MANAGER(S) AND ADDRESS:

Chief Financial Officer, HQ. See Appendix A.

NOTIFICATION PROCEDURE:

Individuals may make record inquiries in person or in writing to the Systems Manager or PA Officer.

ACCESS PROCEDURES:

Systems Manager or PA Officer will determine procedures.

CONTESTING PROCEDURES:

Notify officials listed above and state reason(s) for contesting and proposed amendment(s) sought.

SOURCE CATEGORIES:

SBA employees.

SBA 10

SYSTEM NAME:

EMPLOYEE IDENTIFICATION CARD FILES—SBA 10

SYSTEM LOCATION:

Office of Human Capital Management (Headquarters), Denver Human Capital Management Operations Division and Disaster Loan Making Centers (DLMC). See Appendix A.

CATEGORIES OF INDIVIDUALS COVERED BY THE SYSTEM INCLUDES:

SBA employees.

CATEGORIES OF RECORDS IN THE SYSTEM INCLUDES:

Employee name and their identification card numbers.

AUTHORITY FOR MAINTENANCE OF THE SYSTEM:

15 U.S.C. 634(b)(6), 44 U.S.C. 3101.

ROUTINE USES OF RECORDS MAINTAINED IN THE SYSTEM, INCLUDING CATEGORIES OF USERS AND THE PURPOSES OF SUCH USES, THESE RECORDS MAY BE USED, DISCLOSED OR REFERRED:

a. To a Congressional office from an individual's record, when that office is inquiring on the individual's behalf; the Member's access rights are no greater than the individual's.

b. To SBA volunteers, contractors, interns, grantees, experts and who have been engaged by SBA to assist in the performance of a service related to this system of records and who need access to the records in order to perform this activity. Recipients of these records shall be required to comply with the requirements of the Privacy Act of 1974, as amended, 5 U.S.C. 552a.

c. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

d. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

e. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORING, RETRIEVING, ACCESSING, RETAINING AND DISPOSING OF RECORDS:

STORAGE:

Paper and electronic files.

RETRIEVAL:

By name or identification card number.

SAFEGUARDS:

Access and use is limited to persons with official need to know; computers are protected by password and user identification codes.

RETENTION AND DISPOSAL:

In accordance with National Archives and Records Administration General Records Retention Schedule 1.6.

SYSTEM MANAGER(S) AND ADDRESS:

Assistant Administrator/Human Capital Management (HQ) and DLMC Directors. See Appendix A.

NOTIFICATION PROCEDURES:

Individuals may make record inquiries in person or in writing to the Systems Manager or PA Officer.

ACCESS PROCEDURES:

Systems Manager or PA Officer will determine procedures.

CONTESTING PROCEDURES:

Notify officials listed above and state reason(s) for contesting and proposed amendment(s) sought.

SOURCE CATEGORIES:

Subject employee, individuals and agency personnel records.

SBA 11

SYSTEM NAME:

ENTREPRENEURIAL DEVELOPMENT—MANAGEMENT INFORMATION SYSTEM—SBA 11

SYSTEM LOCATION:

Headquarters (HQ).

CATEGORIES OF INDIVIDUALS COVERED BY THE SYSTEM:

Individuals using SBA's business counseling and assistance services.

CATEGORIES OF RECORDS IN THE SYSTEM:

Individual and business information on SBA clients.

AUTHORITY FOR MAINTENANCE OF THE SYSTEM:

Public Law 85-536, 15 U.S.C. 631 (Small Business Act), sec. 7(j)(1), (Business Counseling), 15 U.S.C. 648 sec. 21 (Small Business Development Centers), 15 U.S.C. 656 sec. 29 (Women's Business Centers), Public Law 106-50 (Veterans' Entrepreneurship and Small Business Development Act of 1999), 44 U.S.C. 3101 (Records Management by Federal Agencies) and Public Law 103-62 (Government Performance and Results Act).

ROUTINE USES OF RECORDS MAINTAINED BY THE SYSTEM, INCLUDING CATEGORIES OF USERS AND THE PURPOSES OF SUCH USES, THESE RECORDS MAY BE USED, DISCLOSED OR REFERRED:

a. To the Agency service provider (resource partner) who initially collected the information.

b. To a Congressional office from an individual's record, when that office is inquiring on the individual's behalf; the Member's access rights are no greater than the individual's.

c. To SBA volunteers, contractors, interns, grantees, experts and who have been engaged by SBA to assist in the performance of a service related to this system of records and who need access to the records in order to perform this activity. Recipients of these records shall be required to comply with the requirements of the Privacy Act of 1974, as amended, 5 U.S.C. 552a.

d. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

e. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

f. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORING, RETRIEVING, ACCESSING, RETAINING AND DISPOSING OF RECORDS:

STORAGE:

Electronic form in secured database on a dedicated computer.

RETRIEVAL:

By SBA Customer Number and cross-referenced by individual or business name.

SAFEGUARDS:

Access and use over the Internet with a restricted numerical password. Access and use is limited to Federal officials with a need-to-know and to designated resource partners. SBA resource partners will have access only to those individuals that were collected by that particular resource partner. Designated program managers in HQ and district directors will have access to individual records only as needed for program management.

RETENTION AND DISPOSAL:

In accordance with EDMIS N1-309-03-06.

SYSTEM MANAGER(S) AND ADDRESS:

Associate Deputy Administrator for Entrepreneurial Development and designee in Headquarters.

NOTIFICATION PROCEDURES:

Individuals may make record inquiries in person or in writing to the Systems Manager or PA Officer.

ACCESS PROCEDURES:

The Systems Manager or PA Officer will determine procedures.

CONTESTING PROCEDURES:

Notify officials listed above and state reason(s) for contesting and proposed amendment(s) sought.

SOURCE CATEGORIES:

Subject individuals or businesses.

SBA 12

SYSTEM NAME:

EQUAL EMPLOYMENT OPPORTUNITY PRE-COMPLAINT COUNSELING—SBA 12

SYSTEM LOCATION:

Headquarters and Field Offices. See Appendix A.

CATEGORIES OF INDIVIDUALS COVERED BY THE SYSTEM INCLUDES:

Current/former SBA employees, members of a group (class complaints) who have requested counseling regarding employment discrimination.

CATEGORIES OF RECORDS IN THE SYSTEM INCLUDES:

Case files may include employee and interview statements. The Equal Employment Opportunity (EEO) Counselor's Report becomes part of the EEO Complaint case.

AUTHORITY FOR MAINTENANCE OF THE SYSTEM:

29 CFR Part 1611.

ROUTINE USES OF RECORDS MAINTAINED IN THE SYSTEM, INCLUDING CATEGORIES OF USERS AND THE PURPOSES OF SUCH USES, THESE RECORDS MAY BE USED, DISCLOSED OR REFERRED:

a. To report counseling activity to the Office of Equal Employment Opportunity and Civil Rights Compliance (EEO/CRC).

b. To a Congressional office from an individual's record, when that office is inquiring on the individual's behalf; the Member's access rights are no greater than the individual's.

c. To SBA volunteers, contractors, interns, grantees, experts and who have been engaged by SBA to assist in the performance of a service related to this system of records and who need access to the records in order to perform this activity. Recipients of these records shall be required to comply with the requirements of the Privacy Act of 1974, as amended, 5 U.S.C. 552a.

d. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

e. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

f. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORING, RETRIEVING, ACCESSING, RETAINING AND DISPOSING OF RECORDS:

STORAGE:

Paper and electronic files.

RETRIEVAL:

By employee name.

SAFEGUARDS:

Access and use is limited to persons with official need to know; computers are protected by password and user identification code.

RETENTION AND DISPOSAL:

In accordance with National Archives and Records Administration General Records Schedule 1.25.a.

SYSTEM MANAGER(S) AND ADDRESS:

Assistant Administrator for EEO&CRC and Field Office Systems Managers. See Appendix A.

NOTIFICATION PROCEDURES:

Individuals may make record inquiries in person or in writing to the Systems Manager or PA Officer.

ACCESS PROCEDURES:

Systems Manager or PA Officer will determine procedures.

CONTESTING PROCEDURES:

Notify officials listed above and state reason(s) for contesting and proposed amendment(s) sought.

SOURCE CATEGORIES:

Employee seeking counseling, other employees, EEO Counselor, personnel and employment records.

SBA 13

SYSTEM NAME:

EQUAL EMPLOYMENT OPPORTUNITY COMPLAINT CASES—SBA 13

SYSTEM LOCATION:

Headquarters. See Appendix A.

CATEGORIES OF INDIVIDUALS COVERED BY THE SYSTEM INCLUDES:

Current/former SBA employees and/or members of a class complaint who have requested counseling regarding employment discrimination.

CATEGORIES OF RECORDS IN THE SYSTEM INCLUDES:

Complaint files, Equal Employment Opportunity (EEO) Counselor's Report, information from investigations, notes, hearing report, Hearing Examiner's recommendations and Agency actions. Closed cases are included.

AUTHORITY FOR MAINTENANCE OF THE SYSTEM:

29 CFR Part 1611.

ROUTINE USES OF RECORDS MAINTAINED IN THE SYSTEM, INCLUDING CATEGORIES OF USERS AND THE PURPOSES OF SUCH USES, THESE RECORDS MAY BE USED, DISCLOSED OR REFERRED:

a. To report to the Equal Employment Opportunity Commission (EEOC).

b. To EEOC when there is a hearing, these records will be used in the case.

c. To EEOC when a complaint is appealed, these records will be used by the Office of Equal Employment Opportunity and Civil Rights Compliance (EEO/CRC) in their decision making.

d. To the Office of General Counsel and the Department of Justice (DOJ) when a complaint results in a Federal suit, these records will be referred and used to prepare and present the case in court.

e. To a Congressional office from an individual's record, when that office is inquiring on the individual's behalf; the Member's access rights are no greater than the individual's.

f. To SBA volunteers, contractors, interns, grantees, experts and who have been engaged by SBA to assist in the performance of a service related to this system of records and who need access to the records in order to perform this activity. Recipients of these records shall be required to comply with the requirements of the Privacy Act of 1974, as amended, 5 U.S.C. 552a.

g. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

h. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

i. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORING, RETRIEVING, ACCESSING, RETAINING AND DISPOSING OF RECORDS:

STORAGE:

Paper and electronic files.

RETRIEVAL:

By name of complainant.

SAFEGUARDS:

Access and use is limited to persons with official need to know; computers are protected by password and user identification codes.

RETENTION AND DISPOSAL:

In accordance with National Archives and Records Administration General Records Schedule 1.25.a.

SYSTEM MANAGER(S) AND ADDRESS:

Assistant Administrator for EEO/CRC and Field Office Systems Managers and the Office of the Inspector General (OIG). See Appendix A.

NOTIFICATION PROCEDURES:

Individuals may make record inquiries in person or in writing to the Systems Manager or PA Officer.

ACCESS PROCEDURES:

Systems Manager or PA Officer will determine procedures.

CONTESTING PROCEDURES:

Notify officials listed above and state reason(s) for contesting and proposed amendment(s) sought.

SOURCE CATEGORY:

Complainant, witnesses, hearing transcript, personnel and employment records, examiner's recommendations and agency investigation.

SYSTEMS EXEMPTED FROM CERTAIN PROVISIONS OF THE ACT:

(1) Pursuant to 5 U.S.C. 552a(j)(2), this system of records is exempt from the application of all provisions of section 552a except sections (b), (c)(1) and (2), (e)(4)(A) through (F), (e)(6), (7), (9), (10), (11), and (i), to the extent that it consists of (A) information compiled for the purpose of identifying individual criminal offenders and alleged offenders and consisting only of identifying data and notations of arrests, confinement, release, and parole and probation status; (B) information compiled for the purpose of criminal investigation, including reports of informants and investigators, and associated with an identifiable individual; or (C) reports identifiable to an individual compiled at any stage of the process of enforcement of the criminal laws from arrest or indictment through release from supervision. This system is exempted in order to maintain the efficacy and integrity of the OIG's criminal law enforcement function.

(2) Pursuant to 5 U.S.C. 552(a)(k)(2) and (k)(5), all investigatory material in the record compiled for law enforcement purposes or for the purpose of determining suitability, eligibility, or qualifications for Federal civilian employment, Federal contracts, or access to classified information is exempt from the notification, access, and contest requirements under 5 U.S.C. 552a(c)(3), (d), (e)(1), (e)(4), (G), (H), and (I), and (f) of the Agency regulations. This exemption is necessary in order to fulfill commitments made to protect the confidentiality of sources and to protect subjects of investigations from frustrating the investigatory process.

SBA 14

SYSTEM NAME:

FREEDOM OF INFORMATION AND PRIVACY ACTS RECORDS—SBA 14

SYSTEM LOCATION:

Headquarters (HQ) and Field Offices. See Appendix A.

CATEGORIES OF INDIVIDUALS COVERED BY THE SYSTEM INCLUDES:

Persons who have submitted requests or appeals under either of the Acts.

CATEGORIES OF RECORDS IN THE SYSTEM INCLUDES:

Files created for Freedom of Information/Privacy Acts (FOI/PA) appeals and agency-wide database to track FOI/PA cases.

AUTHORITY FOR MAINTENANCE OF THE SYSTEM:

44 U.S.C. 3101, 15 U.S.C. 634(b)(6), 5 U.S.C. 552 and 5 U.S.C. 552a.

ROUTINE USES OF RECORDS MAINTAINED IN THE SYSTEM, INCLUDING CATEGORIES OF USERS AND THE PURPOSES OF SUCH USES, THESE RECORDS MAY BE USED, DISCLOSED OR REFERRED:

a. To review individual cases, keep logs and records, comply with statutory time limitations and prepare mandated reports.

b. To the Federal, State, local or foreign agency or professional organization, including SBA offices, which investigates prosecutes or enforces violations, statutes, rules, regulations or orders issued when the Agency identifies a violation or potential violation of law whether arising by general or program statute, or by regulation, rule or order.

c. To a Congressional office from an individual's record, when that office is inquiring on the individual's behalf; the Member's access rights are no greater than the individual's.

d. To SBA volunteers, contractors, interns, grantees, experts and who have been engaged by SBA to assist in the performance of a service related to this system of records and who need access to the records in order to perform this activity. Recipients of these records shall be required to comply with the requirements of the Privacy Act of 1974, as amended, 5 U.S.C. 552a.

e. To agency personnel responsible for bringing Program Fraud Civil Remedies Act litigation to the tribunal hearing litigation or any appeals and to counsel for the defendant party in any such litigation.

f. To a grand jury agent pursuant to a Federal or State grand jury subpoena or to a prosecution request that records be released for introduction to a grand jury.

g. To a Federal agency which has the authority to subpoena other Federal agencies records and has issued a valid subpoena.

h. To the Department of Justice (DOJ) in order to obtain that department's advice regarding an agency's FOIA disclosure obligations.

i. To the Office of Management and Budget to obtain that office's advice regarding an agency's PA obligations.

j. To DOJ when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

k. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

l. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORING, RETRIEVING, ACCESSING, RETAINING AND DISPOSING OF RECORDS:

STORAGE:

Locked file cabinets and electronic files.

RETRIEVAL:

By name or database number.

SAFEGUARDS:

Access and use limited to persons with official need to know; computers are protected by password and user identification codes.

RETENTION AND DISPOSAL:

Retention is in accordance with National Archives and Records Administration's General Records Schedule 14.

SYSTEM MANAGER(S) AND ADDRESS:

PA Officer for HQ records and Field Managers for field records. See Appendix A.

NOTIFICATION PROCEDURES:

An individual may submit a record inquiry in person or in writing to the Systems Manager.

ACCESS PROCEDURES:

The Systems Manager or PA Officer will determine procedures.

CONTESTING PROCEDURES:

Notify officials listed above and state reason(s) for contesting and proposed amendment(s) sought.

SOURCE CATEGORIES:

Correspondence submitted directly to and replies from SBA.

SBA 15

SYSTEM NAME:

EMPLOYEE DISPUTES AND APPEALS—SBA 15

SYSTEM LOCATION:

Servicing Personnel Office and the Office of Hearings and Appeals (OHA) where employee disputes (formerly Grievances) or appeals of employee disputes have been filed. See Appendix A.

CATEGORIES OF INDIVIDUALS COVERED BY THE SYSTEM INCLUDES:

SBA employees who have filed Employee Disputes under Standard Operating Procedure (SOP) 37 71. These individuals may be referred to as the employees, the appellants, or the grievants.

CATEGORIES OF RECORDS IN THE SYSTEM INCLUDES:

Correspondence, supporting documents, pleadings, orders, and decisions.

AUTHORITY FOR MAINTENANCE OF THE SYSTEM:

15 U.S.C. 634(b)(6), 44 U.S.C. 3101, SOP 37 71 and 13 CFR Part 134.

ROUTINE USES OF RECORDS MAINTAINED IN THE SYSTEM, INCLUDING CATEGORIES OF USERS AND THE PURPOSES OF SUCH USES, THESE RECORDS MAY BE USED, DISCLOSED OR REFERRED:

a. To the Office of Personnel Management (OPM) or used in reporting to the OPM on labor-management relations activity.

b. To a Hearing Examiner in response to another Agency's inquiry, pursuant to established procedures.

c. To a Congressional office from an individual's record, when that office is inquiring on the individual's behalf; the Member's access rights are no greater than the individual's.

d. To SBA volunteers, contractors, interns, grantees, experts and who have been engaged by SBA to assist in the performance of a service related to this system of records and who need access to the records in order to perform this activity. Recipients of these records shall be required to comply with the requirements of the Privacy Act of 1974, as amended, 5 U.S.C. 552a.

e. To the Office of the Special Counsel for any purpose consistent with its mission.

f. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

g. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

h. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORING, RETRIEVING, ACCESSING, RETAINING AND DISPOSING OF RECORDS:

STORAGE:

Paper and electronic files.

RETRIEVAL:

Name of the employee who filed the dispute and/or appeal.

SAFEGUARDS:

Access and use limited to persons whose official need to know; computers are protected by password and user identification codes.

RETENTION AND DISPOSAL:

Retention is in accordance with SOP 00 41 2 30:02.

SYSTEM MANAGER(S) AND ADDRESS:

Assistant Administrator for OHA, Chief Human Capital Officer and Field Managers. See Appendix A.

NOTIFICATION PROCEDURE:

Individuals may make record inquiries in person or in writing to the Systems Manager or PA Officer.

ACCESS PROCEDURES:

Systems Manager or PA Officer will determine procedures.

CONTESTING PROCEDURES:

Notify officials listed above and state reason(s) for contesting and proposed amendment(s) sought.

SOURCE CATEGORIES:

Grievants, appellants, employees, personnel and employment records.

SBA 16

SYSTEM NAME:

INVESTIGATIVE FILES—SBA 16

SYSTEM LOCATION:

Office of the Inspector General (OIG), Investigations Division offices and Federal Records Center (FRC). See Appendix A.

CATEGORIES OF INDIVIDUALS COVERED BY THE SYSTEM INCLUDES:

Persons and other entities against whom are made allegations that are within the jurisdiction of the OIG to investigate; persons identified as making such allegations; or persons cross-referenced in investigative file or subsequent investigations. Applicants to, and participants in SBA programs, their principals, representatives and resource partners; contractors and parties to cooperative agreements and their principals, representatives, and other interested parties; governmental entities; SBA employees, members of the Advisory Councils, Service Corps of Retired Executive volunteers and others in connection with allegations of wrongdoing that are within the jurisdiction of the OIG to investigate.

CATEGORIES OF RECORDS IN THE SYSTEM INCLUDES:

Material provided to, gathered or created by OIG in investigating, or otherwise dealing with allegations that are within the jurisdiction of the OIG to investigate, documentation of allegations, consultations, decisions, interviews, records reviews, reports of investigations, and various correspondence, etc.

AUTHORITY FOR MAINTENANCE OF THE SYSTEM:

5 U.S.C. App. 3 (The Inspector General Act of 1978, as amended), 15 U.S.C. Chapters 14A and 14B and 44 U.S.C. 3101.

ROUTINE USES OF RECORDS MAINTAINED IN THE SYSTEM, INCLUDING CATEGORIES OF USERS AND THE PURPOSES OF SUCH USES, THESE RECORDS MAY BE USED, DISCLOSED OR REFERRED:

a. To the Federal, State, local or foreign agency or professional organization which investigates, prosecutes or enforces violations, statutes, rules, regulations or orders issued when the Agency identifies a violation or potential violation of law whether arising by general or program statute, or by regulation, rule or order.

b. To a court, magistrate, grand jury or administrative tribunal, or to opposing counsel in the course of hearings, trials or settlement negotiations.

c. To any private or governmental source or person, in order to secure information relevant to an investigation, audit or other evaluation.

d. To other Federal agencies conducting background checks; only to the extent the information is relevant to the requesting agencies' function.

e. To any Federal, State, local, foreign or international agency, in connection with such entity's assignment, hiring and retention of an individual, issuance of a security clearance, reporting of an investigation of an individual, letting of a contract or issuance of a license, grant or other benefit, to the extent that the information is relevant and necessary to such agency's decision on the matter.

f. To a domestic, foreign, or international government agency maintaining civil, criminal, relevant enforcement or other pertinent information, for the assignment hiring or retention of an individual, the issuance of a security clearance, the letting of a contract, or the issuance of a license, grant, or other benefit.

g. To Federal, State or local bar associations and other professional regulatory or disciplinary bodies for use in disciplinary proceedings and inquiries.

h. To a Congressional office from an individual's record, when that office is inquiring on the individual's behalf; the Member's access rights are no greater than the individual's.

i. To the General Accounting Office (GAO) for periodic reviews of SBA.

j. To the Office of Government Ethics for any purpose consistent with their mission.

k. To GAO, and to the General Services Administration's Board of Contract Appeals in bid protest cases involving an agency procurement.

l. To any Federal agency which has the authority to subpoena other Federal agencies' records and has issued a valid subpoena.

m. To the Department of Treasury and the Department of Justice (DOJ) when an agency is seeking an ex parte court order to obtain taxpayer information from the Internal Revenue Service.

n. To debt collection contractors for collecting delinquent debts as authorized by the Debt Collection Act of 1982, 31 U.S.C. 3718.

o. To SBA volunteers, interns, grantees, experts and contractors who have been engaged by SBA to assist in the performance of a service related to this system of records and who need access to the records in order to perform this activity. Recipients of these records shall be required to comply with the requirements of the Privacy Act of 1974, as amended, 5 U.S.C. 552a.

p. To DOJ when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

q. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

r. To members of the President's Council on Integrity and Efficiency, DOJ or other agencies for the purpose of conducting qualitative reviews of SBA OIG operations for the preparation of reports to the President and Congress on the activities of the Inspectors General, and for other uses in furtherance of the Inspector General Act of 1978, as amended.

s. To the public when the matter under investigation has become public knowledge, or when the IG determines that such disclosure is necessary to preserve confidence in the integrity of the OIG investigative process, or to demonstrate the accountability of SBA employees, or other individuals covered by this system, or when there exists a legitimate public interest unless the IG determines that disclosure of the specific information in the context of a particular case would constitute an unwarranted invasion of personal privacy.

t. To inform complainants, victims, and witnesses of the results of an investigation or inquiry.

u. To a Federal agency responsible for considering debarment or suspension action if the record would be relevant to such action.

v. To appropriate agencies, entities, and persons when: SBA suspects or has confirmed that the security or confidentiality of information in the system records has been compromised; SBA has determined that as a result of the suspected or confirmed compromise there is a risk of harm to economic or property interests, identity theft or fraud, or harm to the security or integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORING, RETRIEVING, ACCESSING, RETAINING AND DISPOSING OF RECORDS:

STORAGE:

File folders in filing cabinets or safes, or on shelves in locked file room, and electronic files.

RETRIEVAL:

Indexed by fiscal year closed and then by case number. Cross-referenced to the number(s) of the investigative file(s) containing related materials.

SAFEGUARDS:

All filing cabinets and file rooms are locked. Access to and use limited to those persons with official need to know; computers are protected by password and user identification codes.

RETENTION AND DISPOSAL:

Maintain in accordance with SOP 00 41.

SYSTEM MANAGER(S) AND ADDRESS:

Assistant Inspector General for Investigations or designee. See Appendix A.

NOTIFICATION PROCEDURES:

Individuals may make record inquiries in person or in writing to the Systems Manager or PA Officer.

ACCESS PROCEDURES:

Systems Manager or PA Officer will determine procedures.

CONTESTING PROCEDURES:

Notify officials listed above and state reason(s) for contesting and proposed amendment(s) sought.

SOURCE CATEGORIES:

Subject individual, Agency personnel, informants, financial institutions, the Federal Bureau of Investigation and other investigative Government agencies.

SYSTEMS EXEMPTED FROM CERTAIN PROVISIONS OF THE ACT:

(1) Pursuant to 5 U.S.C. 552a(j)(2), this system of records is exempt from the application of all provisions of section 552a except sections (b), (c)(1) and (2), (e)(4)(A) through (F), (e)(6), (7), (9), (10), (11), and (i), to the extent that it consists of (A) information compiled for the purpose of identifying individual criminal offenders and alleged offenders and consisting only of identifying data and notations of arrests, confinement, release, and parole and probation status; (B) information compiled for the purpose of criminal investigation, including reports of informants and investigators, and associated with an identifiable individual; or (C) reports identifiable to an individual compiled at any stage of the process of enforcement of the criminal laws from arrest or indictment through release from supervision. This system is exempted in order to maintain the efficacy and integrity of the OIG's criminal law enforcement function.

(2) Pursuant to 5 U.S.C. 552(a)(k)(2) and (k)(5), all investigatory material in the record compiled for law enforcement purposes or for the purpose of determining suitability, eligibility, or qualifications for Federal civilian employment, Federal contracts, or access to classified information is exempt from the notification, access, and contest requirements under 5 U.S.C. 552a(c)(3), (d), (e)(1), (e)(4) (G), (H), and (I), and (f) of the Agency regulations. This exemption is necessary in order to fulfill commitments made to protect the confidentiality of sources and to protect subjects of investigations from frustrating the investigatory process.

SBA 17

SYSTEM NAME:

INVESTIGATIONS MANAGEMENT INFORMATION SYSTEM—SBA 17

SYSTEM LOCATION:

On dedicated server and shared drive accessible only to Office of the Inspector General (OIG), Investigations Division personnel and authorized Information Technology maintenance personnel. See Appendix A.

CATEGORIES OF INDIVIDUALS COVERED IN THE SYSTEM INCLUDES:

Persons or other entities against whom are made allegations that are within the OIG's jurisdiction to investigate, persons identified as making allegations or persons who are cross-referenced to an investigative file, principals, representatives of applicants, participants, contractors, grantees, participants in cooperative agreements, resource partners and their principals and representatives, and other interested parties participating in SBA programs.

CATEGORIES OF RECORDS IN THE SYSTEM INCLUDES:

Material gathered or created during preparation for, conduct of and follow-up on investigations conducted by OIG, the Federal Bureau of Investigation (FBI) and other Federal, State, local, or foreign regulatory or law enforcement agency. May include alphabetical indices of names and case numbers and information about allegations, decisions, investigative assignments and special techniques, and reports and results of investigations and time spent by investigators.

AUTHORITY FOR MAINTENANCE OF THE SYSTEM:

5 U.S.C. App. 3 (The Inspector General Act of 1978, as amended); 15 U.S.C. Chapters 14A and 14B; 44 U.S.C. 3101.

ROUTINE USES OF RECORDS MAINTAINED IN THE SYSTEM, INCLUDING CATEGORIES OF USERS AND THE PURPOSES OF SUCH USES, THESE RECORDS MAY BE USED, DISCLOSED OR REFERRED:

a. To the Federal, State, local or foreign agency or professional organization which investigates, prosecutes or enforces violations, statutes, rules, regulations or orders issued when the Agency identifies a violation or potential violation of law whether arising by general or program statute, or by regulation, rule or order.

b. To a court, magistrate, grand jury or administrative tribunal, or to opposing counsel in the course of hearings, trials or settlement negotiations.

c. To any private or governmental source or person, to the extent necessary to secure information relevant to an investigation or audit.

d. To other Federal agencies conducting background checks; only to the extent the information is relevant to the requesting agencies' function.

e. To any Federal, State, local, foreign or international agency, in connection with such entity's assignment, hiring and retention of an individual, issuance of a security clearance, reporting of an investigation of an individual, letting of a contract or issuance of a license, grant or other benefit, to the extent that the information is relevant and necessary to such agency's decision on the matter.

f. To a domestic, foreign, or international government agency maintaining civil, criminal, relevant enforcement or other pertinent information, for the assignment hiring or retention of an individual, the issuance of a security clearance, the letting of a contract, or the issuance of a license, grant, or other benefit.

g. To Federal, State or local bar associations and other professional regulatory or disciplinary bodies for use in disciplinary proceedings and inquiries.

h. To a Congressional office from an individual's record, when that office is inquiring on the individual's behalf; the Member's access rights are no greater than the individual's.

i. To the Office of Government Ethics for any purpose consistent with their mission.

j. To General Accountability Office and to the General Services Administration's Board of Contract Appeals in bid protest cases involving an agency procurement.

k. To any Federal agency which has the authority to subpoena other Federal agencies' records and has issued a valid subpoena.

l. To the Department of Treasury and the Department of Justice (DOJ) when an agency is seeking an ex parte court order to obtain taxpayer information from the Internal Revenue Service.

m. To debt collection contractors for collecting delinquent debts as authorized by the Debt Collection Act of 1982, 31 U.S.C. 3718.

n. To SBA volunteers, interns, grantees, experts and contractors who have been engaged by SBA to assist in the performance of a service related to this system of records and who need access to the records in order to perform this activity. Recipients of these records shall be required to comply with the requirements of the Privacy Act of 1974, as amended, 5 U.S.C. 552a.

o. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

p. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

q. To members of the President's Council on Integrity and Efficiency, DOJ or other agencies for the purpose of conducting qualitative reviews of SBA OIG operations for the preparation of reports to the President and Congress on the activities of the Inspectors General, and for other uses in furtherance of the Inspector General Act of 1978, as amended.

r. To the public when the matter under investigation has become public knowledge, or when the IG determines that such disclosure is necessary to preserve confidence in the integrity of the OIG investigative process, or to demonstrate the accountability of SBA employees, or other individuals covered by this system, or when there exists a legitimate public interest unless the IG determines that disclosure of the specific information in the context of a particular case would constitute an unwarranted invasion of personal privacy.

s. To inform complainants, victims, and witnesses of the results of an investigation or inquiry.

t. To a Federal agency responsible for considering debarment or suspension action if the record would be relevant to such action.

u. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORING, RETRIEVING, ACCESSING, RETAINING AND DISPOSING OF RECORDS:

STORAGE:

Self-contained system on dedicated server and shared drive.

RETRIEVAL:

Subjects' name or Social Security number, company name, complainant's name, case number, case name or agent's name.

SAFEGUARDS:

Access to and use of these records is limited to those persons whose official duties require such access; computers are protected by password and user identification codes.

RETENTION AND DISPOSAL:

In accordance with Standard Operating Procedure 00 41. Retained on server and shared drive indefinitely.

SYSTEM MANAGER(S) AND ADDRESS:

Assistant Inspector General for Investigations or designee. See Appendix A.

NOTIFICATION PROCEDURES:

Individuals may make record inquiries in person or in writing to the Systems Manager or PA Officer.

ACCESS PROCEDURES:

Systems Manager or PA Officer will determine procedures.

CONTESTING PROCEDURES:

Notify officials listed above and state reason(s) for contesting and proposed amendment(s) sought.

SOURCE CATEGORIES:

Subject individual, Agency personnel, informants, the Federal Bureau of Investigation and other investigative Government agencies.

SYSTEMS EXEMPTED FROM CERTAIN PROVISIONS OF THE ACT:

(1) Pursuant to 5 U.S.C. 552a(j)(2), this system of records is exempt from the application of all provisions of section 552a except sections (b), (c)(1) and (2), (e)(4)(A) through (F), (e)(6), (7), (9), (10), (11), and (i), to the extent that it consists of (A) information compiled for the purpose of identifying individual criminal offenders and alleged offenders and consisting only of identifying data and notations of arrests, confinement, release, and parole and probation status; (B) information compiled for the purpose of criminal investigation, including reports of informants and investigators, and associated with an identifiable individual; or (C) reports identifiable to an individual compiled at any stage of the process of enforcement of the criminal laws from arrest or indictment through release from supervision. This system is exempted in order to maintain the efficacy and integrity of the OIG's criminal law enforcement function.

(2) Pursuant to 5 U.S.C. 552(a)(k)(2) and (k)(5), all investigatory material in the record compiled for law enforcement purposes or for the purpose of determining suitability, eligibility, or qualifications for Federal civilian employment, Federal contracts, or access to classified information is exempt from the notification, access, and contest requirements under 5 U.S.C. 552a(c)(3), (d), (e)(1), (e)(4) (G), (H), and (I), and (f) of the Agency regulations. This exemption is necessary in order to fulfill commitments made to protect the confidentiality of sources and to protect subjects of investigations from frustrating the investigatory process.

SBA 18

SYSTEM NAME:

LEGAL WORK FILES ON PERSONNEL CASES—SBA 18

SYSTEM LOCATION:

Headquarters (HQ), Office of the Inspector General (OIG) and Field Offices. See Appendix A.

CATEGORIES OF INDIVIDUALS COVERED BY THE SYSTEM:

SBA employees.

CATEGORIES OF RECORDS IN THE SYSTEM INCLUDES:

Opinions, advice, transcripts, witness statements, etc. maintained by the Office of General Counsel on personnel cases.

AUTHORITY FOR MAINTENANCE OF THE SYSTEM:

15 U.S.C. 634(b)(6).

ROUTINE USES OF RECORDS MAINTAINED IN THE SYSTEM, INCLUDING CATEGORIES OF USERS AND THE PURPOSES OF SUCH USES, THESE RECORDS MAY BE USED, DISCLOSED OR REFERRED:

a. To a Congressional office from an individual's record, when that office is inquiring on the individual's behalf; the Member's access rights are no greater than the individual's.

b. To SBA volunteers, contractors, interns, grantees, experts and who have been engaged by SBA to assist in the performance of a service related to this system of records and who need access to the records in order to perform this activity. Recipients of these records shall be required to comply with the requirements of the Privacy Act of 1974, as amended, 5 U.S.C. 552a.

c. To the Office of Government Ethics for any purpose consistent with their mission.

d. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

e. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

f. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORING, RETRIEVING, ACCESSING, RETAINING AND DISPOSING OF RECORDS:

STORAGE:

Paper and electronic files.

RETRIEVAL:

By employee name.

SAFEGUARDS:

Access to and use limited to those persons with official need to know; computers are protected by password and user identification codes.

RETENTION AND DISPOSAL:

In accordance with Standard Operating Procedure 00 41 2 70:01, 70:07 and 70:11.

SYSTEM MANAGER(S) AND ADDRESS:

OGC and OIG. See Appendix A.

NOTIFICATION PROCEDURES:

Individuals may make record inquiries in person or in writing to the Systems Manager or PA Officer.

ACCESS PROCEDURES:

Systems Manager or PA Officer will determine procedures.

CONTESTING PROCEDURES:

Notify officials listed above and state reason(s) for contesting and proposed amendment(s) sought.

SOURCE CATEGORIES:

Office of Human Capital Management and third party witnesses.

SYSTEMS EXEMPTED FROM CERTAIN PROVISIONS OF THE ACT:

(1) Pursuant to 5 U.S.C. 552a(j)(2), this system of records is exempt from the application of all provisions of section 552a except sections (b), (c)(1) and (2), (e)(4)(A) through (F), (e)(6), (7), (9), (10), (11), and (i), to the extent that it consists of (A) information compiled for the purpose of identifying individual criminal offenders and alleged offenders and consisting only of identifying data and notations of arrests, confinement, release, and parole and probation status; (B) information compiled for the purpose of criminal investigation, including reports of informants and investigators, and associated with an identifiable individual; or (C) reports identifiable to an individual compiled at any stage of the process of enforcement of the criminal laws from arrest or indictment through release from supervision. This system is exempted in order to maintain the efficacy and integrity of the OIG's criminal law enforcement function.

(2) Pursuant to 5 U.S.C. 552(a)(k)(2) and (k)(5), all investigatory material in the record compiled for law enforcement purposes or for the purpose of determining suitability, eligibility, or qualifications for Federal civilian employment, Federal contracts, or access to classified information is exempt from the notification, access, and contest requirements under 5 U.S.C. § 552a(c)(3), (d), (e)(1), (e)(4) (G), (H), and (I), and (f) of the Agency regulations. This exemption is necessary in order to fulfill commitments made to protect the confidentiality of sources and to protect subjects of investigations from frustrating the investigatory process.

SBA 19

SYSTEM NAME:

LITIGATION AND CLAIMS FILES—SBA 19

SYSTEM LOCATION:

Headquarters (HQ), Field Offices, Office of Inspector General Counsel Division, Disaster Loan Making Centers (DLMC) and Disaster Home Loan Servicing Centers (DHLSC). See Appendix A for addresses.

CATEGORIES OF INDIVIDUALS COVERED BY THE SYSTEM INCLUDES:

All Disaster Home Loan recipients and individuals involved in lawsuits or claims pertaining to SBA.

CATEGORIES OF RECORDS IN THE SYSTEM INCLUDES:

Records relating to recipients classified as “in litigation” and all individuals involved in claims by or against the Agency. Wherever applicable: affidavits, briefs, pleadings, depositions and interrogatories, loan status summaries with litigation progress, opinions, copies of Department of Justice (DOJ) papers concerning loan case litigation, summary foreclosures, chattel lien searches, requests and responses under the Freedom of Information Act, loan modifications, recipients' attorneys' names, amount of liability, narrative report of actual and contingent liabilities and related correspondence.

AUTHORITY FOR MAINTENANCE OF THE SYSTEM:

15 U.S.C. 634(b)(6), 44 U.S.C. 3101.

ROUTINE USES OF RECORDS MAINTAINED IN THE SYSTEM, INCLUDING CATEGORIES OF USERS AND THE PURPOSES OF SUCH USES, THESE RECORDS MAY BE USED, DISCLOSED OR REFERRED:

a. To the Federal, State, local or foreign agency or organization that investigates, prosecutes or enforces violations, statutes, rules, regulations or orders issued when the agency identifies a violation or potential violation of law arising by general or program statute, or by regulation, rule or order.

b. To the Federal, State or local private credit agency maintaining civil, criminal or other relevant information to determine an applicant's suitability for a loan; this may be requested individually or part of a computer match program.

c. To a request from a State or Federal agency in connection with the issuance of a grant, loan or other benefit by that agency which is relevant to their decision on the matter; this may be requested individually or part of a computer match. SBA will provide information to the Department of Housing and Urban Development (HUD) to be maintained in a central repository where agencies can request information on a case-by-case basis or as part of a computer match.

d. To another Federal agency, including Defense Manpower Data Center, U.S. Postal Service and HUD, to conduct computer matching programs to locate delinquent SBA borrowers who are receiving Federal salaries or benefit payments.

e. To a consumer reporting agency.

f. To a court, magistrate, grand jury or administrative tribunal, opposing counsel during such proceedings or in settlement negotiations when presenting evidence.

g. To a Congressional office from an individual's record, when that office is inquiring on the individual's behalf; the Member's access rights are no greater than the individual's.

h. To SBA volunteers, contractors, interns, grantees, experts and who have been engaged by SBA to assist in the performance of a service related to this system of records and who need access to the records in order to perform this activity. Recipients of these records shall be required to comply with the requirements of the Privacy Act of 1974, as amended, 5 U.S.C. 552a.

i. To DOJ when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

j. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

k. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORING, RETRIEVING, ACCESSING, RETAINING AND DISPOSING OF RECORDS:

STORAGE:

Paper and electronic files.

RETRIEVAL:

By recipient and claimant name.

SAFEGUARDS:

Access to and use limited to those persons with official need to know; computers are protected by password and user identification codes.

RETENTION AND DISPOSAL:

In accordance with SOP 00 41 2 70:09 and 70:13.

SYSTEM MANAGER(S) AND ADDRESS:

DLMC and DHLSC Directors and Counsel to the Inspector General. See Appendix A.

NOTIFICATION PROCEDURES:

Individuals may make record inquiries in person or in writing to the Systems Manager or PA Officer.

ACCESS PROCEDURES:

Systems Manager or PA Officer will determine procedures.

CONTESTING PROCEDURES:

Notify officials listed above and state reason(s) for contesting and proposed amendment(s) sought.

RETENTION AND DISPOSAL:

In accordance with Standard Operating Procedure 00 41 2 Item Nos. 70:07, 70:08, 70:09, 70:10, 70:11, 70:13, 70:14 and 70:15, OGC NI-309-88-1, OGC NI 309-99-1, OGC NI-309-88-1. In accordance with National Archives and Records Administration General Records Schedule 14.11.

SYSTEM MANAGER(S) AND ADDRESS:

Office of General Counsel and Field Office Systems Manager. See Appendix A.

SOURCE CATEGORIES:

Subject employee, Agency personnel, the public, DOJ, bankruptcy notices, court records, title companies, and loan case files.

SYSTEMS EXEMPTED FROM CERTAIN PROVISIONS OF THE ACT:

(1) Pursuant to 5 U.S.C. 552a(j)(2), this system of records is exempt from the application of all provisions of section 552a except sections (b), (c)(1) and (2), (e)(4)(A) through (F), (e)(6), (7), (9), (10), (11), and (i), to the extent that it consists of (A) information compiled for the purpose of identifying individual criminal offenders and alleged offenders and consisting only of identifying data and notations of arrests, confinement, release, and parole and probation status; (B) information compiled for the purpose of criminal investigation, including reports of informants and investigators, and associated with an identifiable individual; or (C) reports identifiable to an individual compiled at any stage of the process of enforcement of the criminal laws from arrest or indictment through release from supervision. This system is exempted in order to maintain the efficacy and integrity of the OIG's criminal law enforcement function.

(2) Pursuant to 5 U.S.C. 552a(k)(2) and (k)(5), all investigatory material in the record compiled for law enforcement purposes or for the purpose of determining suitability, eligibility, or qualifications for Federal civilian employment, Federal contracts, or access to classified information is exempt from the notification, access, and contest requirements under 5 U.S.C. 552a(c)(3), (d), (e)(1), (e)(4) (G), (H), and (I), and (f) of the Agency regulations. This exemption is necessary in order to fulfill commitments made to protect the confidentiality of sources and to protect subjects of investigations from frustrating the investigatory process.

SBA 20

SYSTEM NAME:

DISASTER LOAN CASE FILE—SBA 20

SYSTEM LOCATION:

Office of Disaster Assistance, DCMS Operations Center, Herndon, Virginia, SBA Disaster Loan Making Centers and SBA Loan Servicing Offices. Data hosting by contractor off site in secure locations per SBA Office of the Chief Information Officer standards. See Appendix A.

CATEGORIES OF INDIVIDUALS COVERED BY THE SYSTEM INCLUDES:

Applicants and recipients of disaster home loans.

CATEGORIES OF RECORDS IN THE SYSTEM INCLUDES:

Information relating to pre-application registrants, disaster home and business loan applicants and recipients of a disaster home and business loans from the time of pre-application registration. Included are: Loan applications, supporting documents, personal history, financial statements, credit information, investigative reports, appraisers' reports, waivers, loan record transfers, correspondence, recommendations, authorizations, disbursement amount, term and rate, payment history, collateral, UCC filings and re-filings, collection and liquidation activities, financial statements, settlements and compromises, participating bank information, field visit reports, borrowers insurance information and loan accounting information.

AUTHORITY FOR MAINTENANCE OF THE SYSTEM:

15 U.S.C. 634(b)(6), 44 U.S.C. 3101.

ROUTINE USES OF RECORDS MAINTAINED IN THE SYSTEM, INCLUDING CATEGORIES OF USERS AND THE PURPOSES OF SUCH USES, THESE RECORDS MAY BE USED, DISCLOSED OR REFERRED:

a. To the public on approved loans, information is limited to recipient name and address, term and rate of the loan, and the apportioned amount of the loan for real or personal property loss.

b. To provide information to potential investors who are interested in bidding on loans made available by the Agency in a sale of assets. Investors will be required to execute a confidentiality agreement prior to reviewing any record or information.

c. To the public, under certain conditions, on losses incurred by the government due to non-payment of obligations by individuals. In these cases, the name and address of the obligator and amount incurred (amount written-off from Agency assets) will not be released to the public unless the borrower consents to disclosure or is required pursuant to the Freedom of Information Act.

d. To the Federal, State, local or foreign agency or professional organization which has responsibility for investigating, prosecuting or enforcing violations, statute rules, regulations or orders issued when the Agency locates a violation or potential violation of law whether arising by general or program statute, or by regulation, rule or order.

e. To request information from a Federal, State or local agency or a private credit agency maintaining civil, criminal or other information relevant to determining an applicant's suitability for a loan; this may be requested individually or part of a computer match.

f. In response to a request from a State or Federal agency in connection with the issuance of a grant, loan or other benefit by that agency which is relevant to their decision on the matter; this may be requested individually or part of a computer match.

g. To other Federal agencies to conduct computer matching programs to locate delinquent SBA borrowers who are receiving Federal salaries or benefit payments and programs to identify delinquent SBA borrowers receiving federal salaries or benefit payments. Disclosure will be made if the records indicate the loan is in default, at least 30 days past due or to update a previous disclosure. SBA will make disclosures to obtain repayments of debts under the provisions of the Debt Collection Act of 1982 by voluntary repayment, or administrative or salary offset procedures.

h. To a consumer reporting agency.

i. To provide the Internal Revenue Service (IRS) with access to an individual's records for an official audit to the extent the information is relevant to the IRS's function.

j. To a court, magistrate, grand jury or administrative tribunal, opposing counsel during such proceedings or in settlement negotiations when presenting evidence.

k. To a Congressional office from an individual's record, when that office is inquiring on the individual's behalf; the Member's access rights are no greater than the individual's.

l. To SBA volunteers, contractors, interns, grantees, experts and who have been engaged by SBA to assist in the performance of a service related to this system of records and who need access to the records in order to perform this activity. Recipients of these records shall be required to comply with the requirements of the Privacy Act of 1974, as amended, 5 U.S.C. 552a.

m. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government,where SBA determines that litigation is likely to affect SBA or any of its components.

n. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

o. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

p. To transmit data to U.S. Department of the Treasury to effect issuance of loan funds to borrowers.

q. To the Federal Emergency Management Agency (FEMA) to coordinate the issuance of federal disaster assistance to disaster victims and monitor for duplication.

POLICIES AND PRACTICES FOR STORING, RETRIEVING, ACCESSING, RETAINING AND DISPOSING OF RECORDS:

STORAGE:

Paper and electronic files.

RETRIEVAL:

By applicant/recipient name, cross-referenced loan number or borrower's Social Security Number or Employer Identification Number.

SAFEGUARDS:

Access and use limited to persons with official need to know; computers are protected by password and user identification codes.

RETENTION AND DISPOSAL:

In accordance with Standard Operating Procedure 00 41 2 Appendix 18.

SYSTEM MANAGER(S) AND ADDRESS:

Disaster Loan Making Center Directors. Director, DCMS Operations Center. See Appendix A.

NOTIFICATION PROCEDURES:

Individuals may make record inquiries in person or in writing to the Systems Manager or PA Officer.

ACCESS PROCEDURES:

Systems Manager or PA Officer will determine procedures.

CONTESTING PROCEDURES:

Notify officials listed above and state reason(s) for contesting and proposed amendment(s) sought.

SOURCE CATEGORIES:

Subject, individuals, SBA employees, financial institution, law enforcement agencies, IRS and FEMA.

SBA 21

SYSTEM NAME:

LOAN SYSTEM—SBA 21

SYSTEM LOCATION:

Headquarters, Regional Offices, District Offices, Branch Offices, Processing Centers, and Servicing Centers. See Appendix A.

CATEGORIES OF INDIVIDUALS COVERED BY THE SYSTEM:

Individuals (i.e., borrowers, guarantors, principals of businesses named in loan records), throughout the life of SBA's interest in a loan, under all of the Agency's business (non-disaster) loan programs.

CATEGORIES OF RECORDS IN THE SYSTEM:

Personal and commercial information (i.e., credit history, financial information, identifying number or other personal identifier) on individuals named in business loan files, throughout the life of SBA's interest in the loan, under all of the Agency's business (non-disaster) loan programs.

AUTHORITY FOR MAINTENANCE OF THE SYSTEM:

Public Law 85-536, 15 U.S.C. 631 et seq. (Small Business Act, all provisions relating to loan programs); 44 U.S.C. 3101 (Records Management by Federal Agencies); and Public Law 103-62 (Government Performance and Results Act).

ROUTINE USES OF RECORDS MAINTAINED IN THE SYSTEM, INCLUDING CATEGORIES OF USES AND THE PURPOSES OF SUCH USES, THESE RECORDS MAY BE USED, DISCLOSED, OR REFERRED:

a. To SBA Resource Partner, its successors or assigns, (i.e. participating lender, certified development company, micro lender) who initially collected the individual's information for the purpose of making and servicing loans.

b. To a Congressional office from an individual's record, when that office is inquiring on the individual's behalf; the Member's access rights are no greater than the individual's.

c. To SBA volunteers, contractors, interns, grantees, experts and who have been engaged by SBA to assist in the performance of a service related to this system of records and who need access to the records in order to perform this activity. Recipients of these records shall be required to comply with the requirements of the Privacy Act of 1974, as amended, 5 U.S.C. 552a.

d. To the Federal, state, local or foreign agency or organization which investigates, prosecutes, or enforces violations, statues, rules, regulations, or orders issued when an agency identifies a violation or potential violation of law, arising by general or program statute, or by regulation, rule, or order.

e. To qualified investors who have signed a confidentiality agreement related to review of files for the purpose of evaluating, negotiating and implementing the purchase of loans from SBA as a part of SBA's Asset Sales program.

f. To request information from a Federal, State, local agency or a private credit agency maintaining civil, criminal or other information relevant to determining an applicant's suitability for a business loan. This applies to individuals involved in business loans.

g. To a recipient who has provided the agency with advance adequate written assurance that the record will be used solely as a statistical research or reporting record, and the record is to be transferred in a form that is not individually identifiable.

h. To 7(a) and 504 lenders and/or participating contractors for purposes of the Loan and Lender Monitoring System.

i. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

j. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

k. To appropriate agencies, entities, and persons when: SBA suspects or has confirmed that the security or confidentiality of information in the system records has been compromised; SBA has determined that as a result of the suspected or confirmed compromise there is a risk of harm to economic or property interests, identity theft or fraud, or harm to the security and integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORING, RETRIEVING, ACCESSING, RETAINING AND DISPOSING OF RECORDS:

STORAGE:

Electronic Records are in a secured server and paper records are in files. Loan files are in a secured area in either locked files or locked file rooms.

RETRIEVABILITY:

Electronic Records: By individual name, personal identifier, SBA Identifier, Participating Lender Identifier, Participating Lender Name, business name, and business identifier. Paper Records: By individual name, personal identifier and SBA Identifier.

SAFEGUARDS:

Electronic Records: Access and use is limited to Agency officials acting in their official capacities, with a need-to-know, and to SBA Resource Partners. Access and use by SBA Resource Partners will generally be via the Internet, with restricted password(s)/passcode(s). SBA Resource Partners, their successors or assigns, will have access only to those individual records that were collected by that particular partner. Information contained in files will be available only to potential asset sale purchasers who have executed a confidentiality agreement. Only SBA employees in the performance of their official duties, who are granted access to the records by Agency issuance of User ID and/or passcode, may amend or review the records. Paper Records: Access and use is limited to SBA officials acting in their official capacities, with a need-to-know. SBA Resource Partners, their successors or assigns, will have access only to the individual records that were collected by that particular partner. Information contained in loan files will be available only to potential asset sale purchasers who have executed a confidentiality agreement. Only those SBA employees in the performance of their official duties may review or amend the records.

RETENTION AND DISPOSAL:

In accordance with SBA Standard Operating Procedure 00 41 2, Item Nos. 50:04, 50:08, 50:09, 50:10, 50:11, 50:12, 50:13, 50:19, 50:22, 55:02. Records are retained for the life of SBA's interest in the business loan and are disposed of according to the reference in the SOP that pertains to a particular type of record; retention period varies according to the type of record.

SYSTEM MANAGERS AND ADDRESSES:

Associate Administrator for Capital Access, Associate Administrator for Lender Oversight, Associate Administrator for Financial Assistance, Regional Administrators, District Directors, Branch Managers, Loan Service Center Director and Loan Processing Centers Directors. See Appendix A.

NOTIFICATION PROCEDURE:

An individual may submit a written record inquiry to the appropriate Systems Manager or PA Officer.

RECORDS ACCESS PROCEDURES:

Systems Manager or PA Officer will determine procedures.

CONTESTING RECORD PROCEDURES:

Notify officials listed above and state reason(s) for contesting and proposed amendment(s) sought.

RECORD SOURCE CATEGORIES:

Subject individuals and businesses, financial institutions, credit reporting agencies, law enforcement agencies and SBA resource partners.

SBA 22

SYSTEM NAME:

OUTSIDE EMPLOYMENT FILES—SBA 22

SYSTEM LOCATION:

Headquarters (HQ) and Field Offices. See Appendix A.

CATEGORIES OF INDIVIDUALS COVERED BY THE SYSTEM INCLUDES:

SBA employees who have requested permission for outside employment.

CATEGORIES OF RECORDS IN THE SYSTEM INCLUDES:

Correspondence concerning requests for outside employment.

AUTHORITY FOR MAINTENANCE OF THE SYSTEM:

15 U.S.C. 634(b)(6), 44 U.S.C. 3101.

ROUTINE USES OF RECORDS MAINTAINED IN THE SYSTEM, INCLUDING CATEGORIES OF USERS AND THE PURPOSES OF SUCH USES, THESE RECORDS MAY BE USED, DISCLOSED OR REFERRED:

a. To a Congressional office from an individual's record, when that office is inquiring on the individual's behalf; the Member's access rights are no greater than the individual's.

b. To SBA volunteers, contractors, interns, grantees, experts and who have been engaged by SBA to assist in the performance of a service related to this system of records and who need access to the records in order to perform this activity. Recipients of these records shall be required to comply with the requirements of the Privacy Act of 1974, as amended, 5 U.S.C. 552a.

c. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

d. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

e. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORING, RETRIEVING, ACCESSING, RETAINING AND DISPOSING OF RECORDS:

STORAGE:

Paper and electronic files.

RETRIEVAL:

By employee name.

SAFEGUARDS:

Access and use limited to persons with official need to know; computers are protected by password and user identification codes.

RETENTION AND DISPOSAL:

In accordance with Standard Operating Procedure 00 41 2 Item 2 30.01.

SYSTEM MANAGER(S) AND ADDRESS:

HQ, Counsel to the Inspector General and Field Managers. See Appendix A.

NOTIFICATION PROCEDURES:

Individuals may make record inquiries in person or in writing to the Systems Manager or PA Officer.

ACCESS PROCEDURES:

Systems Manager or PA Officer will determine procedures.

CONTESTING PROCEDURES:

Notify officials listed above and state reason(s) for contesting and proposed amendment(s) sought.

SOURCE CATEGORIES:

Requesting employee and other Agency personnel.

SBA 23

SYSTEM NAME:

PAYROLL FILES—SBA 23

SYSTEM LOCATION:

Office of Human Capital Management and Office of Inspector General (for OIG employees), both at Headquarters (HQ). See Appendix A.

CATEGORIES OF INDIVIDUALS COVERED BY THE SYSTEM INCLUDES:

Active and inactive SBA employees.

CATEGORIES OF RECORDS IN THE SYSTEM INCLUDES:

Employee name, Social Security Number (SSN), date of birth, grade, step, and salary; organization, retirement and FICA codes and date as applicable; Federal, State and local tax deductions; savings bond and charity deductions; co-owner and/or beneficiary of bonds, insurance deduction and plan or code; cash award data; union dues deductions; type and amount of allotments; financial institution code and account number; status and data on all types of leave; time and attendance records, including breakdown of hours worked; mailing address; marital status and number of dependents; notification of Personnel Actions; unemployment records; register of separations; annual leave restoration; over-payment indebtedness; correspondence from employees concerning payroll.

AUTHORITY FOR MAINTENANCE OF THE SYSTEM:

Title 6 General Accountability Office Policy and Procedures Manual, 31 U.S.C. Part 285, Sections 112(a) and 113 of the Budget and Accounting Procedures Act of 1950 and 5 USC Chapters 55 through 63.

ROUTINE USES OF RECORDS MAINTAINED IN THE SYSTEM, INCLUDING CATEGORIES OF USERS AND THE PURPOSES OF SUCH USES, THESE RECORDS MAY BE USED, DISCLOSED OR REFERRED:

a. To the Federal, State, local or foreign agency or professional organization which investigates, prosecutes or enforces violations, statutes, rules, regulations or orders issued when the Agency identifies a violation or potential violation of law whether arising by general or program statute, or by regulation, rule or order.

b. To transmit data to U.S. Department of Treasury to effect issuance of paychecks to employees and distribution of pay according to employee directions for savings bonds, allotments, financial institutions, and other authorized purposes.

c. To GAO for audit purposes.

d. To the Internal Revenue Service and appropriate State and local authorities when reporting tax withholding; FICA deductions to the Social Security Administration; dues deductions to labor unions; withholdings for health insurance to insurance carriers and the Office of Personnel Management; charity contribution deductions to agents of charitable institutions; annual W-2 statements to taxing authorities and the individual.

e. To a Congressional office from an individual's record, when that office is inquiring on the individual's behalf; the Member's access rights are no greater than the individual's.

f. To SBA volunteers, contractors, interns, grantees, experts and who have been engaged by SBA to assist in the performance of a service related to this system of records and who need access to the records in order to perform this activity. Recipients of these records shall be required to comply with the requirements of the Privacy Act of 1974, as amended, 5 U.S.C. 552a.

g. To the Office of Child Support Enforcement, Administration for Children and Families, Department of Health and Human Services to locate individuals in order to establish paternity and modify orders of child support, identify sources of income, and other child support enforcement actions as required by the Personal Responsibility and Work Opportunity Reconciliation Act Welfare Reform law, Public Law 104-193), SBA will provide the names, SSN, home addresses, dates of birth and hire, quarterly earnings, employer identifying information, and State of hire of employees.

h. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

i. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

j. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORING, RETRIEVING, ACCESSING, RETAINING AND DISPOSING OF RECORDS:

STORAGE:

Paper and electronic files.

RETRIEVAL:

By employee name and/or SSN.

SAFEGUARDS:

Physical, technical and administrative security is maintained and admission to record storage areas limited to authorized personnel.

RETENTION AND DISPOSAL:

In accordance with National Archives and Records Administration General Record Schedule 2.

SYSTEM MANAGER(S) AND ADDRESS:

Chief Human Capital Officer, HQ. See Appendix A.

NOTIFICATION PROCEDURES:

Individuals may make record inquiries in person or in writing to the Systems Manager or PA Officer.

ACCESS PROCEDURES:

Systems Manager or PA Officer will determine procedures.

CONTESTING PROCEDURES:

Notify officials listed above and state reason(s) for contesting and proposed amendment(s) sought.

SOURCE CATEGORIES:

Subject employee, individuals, supervisors, timekeepers, official personnel records, and IRS.

SBA 24

SYSTEM NAME:

PERSONNEL SECURITY FILES—SBA 24

SYSTEM LOCATION:

Office of Inspector General (OIG), Investigations Division, Office of Security Operations. See Appendix A.

CATEGORIES OF INDIVIDUALS COVERED BY THE SYSTEM INCLUDES:

Active and inactive SBA employees.

CATEGORIES OF RECORDS IN THE SYSTEM INCLUDES:

Active and inactive personnel security files, employee or former employee's name, background information, personnel actions, Office of Personnel Management (OPM) and/or authorized contracting firm background investigations.

AUTHORITY FOR MAINTENANCE OF THE SYSTEM:

5 U.S.C. App. 3 (The Inspector General Act of 1978, as amended); 15 U.S.C. Chapters 14A and 14B; 44 U.S.C. 3101, Executive Order 10450, as amended.

ROUTINE USES OF RECORDS MAINTAINED IN THE SYSTEM, INCLUDING CATEGORIES OF USERS AND THE PURPOSES OF SUCH USES, THESE RECORDS MAY BE USED, DISCLOSED OR REFERRED:

a. To the Federal, State, local or foreign agency or professional organization which investigates, prosecutes or enforces violations, statutes, rules, regulations or orders issued when the Agency identifies a violation or potential violation of law whether arising by general or program statute, or by regulation, rule or order.

b. To other Federal Agencies, upon request, that are conducting background checks.

c. To a grand jury, court, magistrate, administrative tribunal, or to opposing counsel in the course of hearings, trials or settlement negotiations.

d. To a Congressional office from an individual's record, when that office is inquiring on the individual's behalf; the Member's access rights are no greater than the individual's.

e. To SBA volunteers, contractors, interns, grantees, experts and who have been engaged by SBA to assist in the performance of a service related to this system of records and who need access to the records in order to perform this activity. Recipients of these records shall be required to comply with the requirements of the Privacy Act of 1974, as amended, 5 U.S.C. 552a.

f. To OPM in accordance with that agency's authority to evaluate Federal personnel management.

g. To the Merit Systems Protection Board in connection with its consideration of appeals of personnel actions.

h. To physicians conducting fitness for duty examinations.

i. To any Federal, State, local, foreign or international agency, in connection with their assignment, hiring or retention of an individual, issuance of a security clearance, reporting of an investigation of an individual, letting of a contract or issuance of a license, grant or other benefit, to the extent the information is relevant to their decision on the matter.

j To a grand jury agent pursuant either to a Federal or State grand jury subpoena or to a prosecution request that record be released for introduction to a grand jury.

k. To the Office of Government Ethics for any purpose consistent with their mission.

l. To members of the President's Council on Integrity and Efficiency, the Department of Justice or other agencies for the purpose of conducting qualitative reviews of SBA OIG operations for the preparation of reports to the President and Congress on the activities of the Inspectors General, and for other uses in furtherance of the Inspector General Act of 1978, as amended.

m. To DOJ when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

n. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

o. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORING, RETRIEVING, ACCESSING, RETAINING AND DISPOSING OF RECORDS:

STORAGE:

Rotary diebold power files and electronic data systems. OPM National Agency checks that are not immediately referred to OPM are maintained in locked safes.

RETRIEVAL:

By employee name.

SAFEGUARDS:

All file cabinets are locked. Access and use limited to persons with official need to know; computers are protected by password and user identification codes.

RETENTION AND DISPOSAL:

In accordance with SOP 00 41.

SYSTEM MANAGER(S) AND ADDRESS:

Assistant Inspector General for Investigations or designee. See Appendix A.

NOTIFICATION PROCEDURES:

Individuals may make record inquiries in person or in writing to the Systems Manager or PA Officer.

ACCESS PROCEDURES:

Assistant Inspector General for Investigations or designee.

CONTESTING PROCEDURES:

Notify officials listed above and state reason(s) for contesting and proposed amendment(s) sought.

SOURCE CATEGORIES:

SBA employees, Office of Human Capital Management, witnesses and OPM.

SYSTEMS EXEMPTED FROM CERTAIN PROVISIONS OF THE ACT:

Pursuant to 5 U.S.C. 552a(k)(5), all investigatory material in the record compiled for law enforcement purposes or for the purpose of determining suitability, eligibility, or qualifications for Federal civilian employment, Federal contracts, or access to classified information is exempt from the notification, access and contest requirements under 5 U.S.C. 552a(c)(3), (d), (e)(1), (e)(4)(G), (H), and (I) and (f) of the Agency regulations. This exemption is necessary in order to fulfill commitments made to protect the confidentiality of sources and to maintain access to sources necessary in making determinations of suitability for employment.

SBA 25

SYSTEM NAME:

PORTFOLIO REVIEWS—SBA 25

SYSTEM LOCATION:

Headquarters, Disaster Loan Making Centers (DLMC) and Disaster Home Loan Service Centers (DHLSC). See Appendix A.

CATEGORIES OF INDIVIDUALS COVERED BY THE SYSTEM INCLUDES:

Recipients of SBA Disaster Home Loans.

CATEGORIES OF RECORDS IN THE SYSTEM INCLUDES:

Reports compiled by the Office of Portfolio Review during review of field office loan processing. Disaster Home Loans may be included.

AUTHORITY FOR MAINTENANCE OF THE SYSTEM:

15 U.S.C. 634(b)(6), 44 U.S.C. 3101.

ROUTINE USES OF RECORDS MAINTAINED IN THE SYSTEM, INCLUDING CATEGORIES OF USERS AND THE PURPOSES OF SUCH USES, THESE RECORDS MAY BE USED, DISCLOSED OR REFERRED:

a. To the Government Accountability Office in the course of their review of the Agency.

b. To a Congressional office from an individual's record, when that office is inquiring on the individual's behalf; the Member's access rights are no greater than the individual's.

c. To SBA volunteers, contractors, interns, grantees, experts and who have been engaged by SBA to assist in the performance of a service related to this system of records and who need access to the records in order to perform this activity. Recipients of these records shall be required to comply with the requirements of the Privacy Act of 1974, as amended, 5 U.S.C. 552a.

d. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

e. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

f. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORING, RETRIEVING, ACCESSING, RETAINING AND DISPOSING OF RECORDS:

STORAGE:

Paper and electronic files.

RETRIEVAL:

By borrower's name, loan number and Social Security Number.

SAFEGUARDS:

Access and use limited to persons with official need to know; personnel screening and computer passwords used to prevent unauthorized disclosure.

RETENTION AND DISPOSAL:

In accordance with SOP 00 41 2 Item Nos. 95:04 and 95:06.

SYSTEM MANAGER(S) AND ADDRESS:

DLMC Directors and DHLSC Managers. See Appendix A.

NOTIFICATION PROCEDURES:

Individuals may make record inquiries in person or in writing to the Systems Manager or PA Officer.

ACCESS PROCEDURES:

Systems Manager or PA Officer will determine procedures.

CONTESTING PROCEDURES:

Notify officials listed above and state reason(s) for contesting and proposed amendment(s) sought.

SOURCE CATEGORIES:

Office of Portfolio Review, Loan Case Files, SBA personnel and field visits to borrowers.

SBA 26

SYSTEM NAME:

POWER OF ATTORNEY FILES—SBA 26

SYSTEM LOCATION:

Field Offices. See Appendix A.

CATEGORIES OF INDIVIDUALS COVERED BY THE SYSTEM INCLUDE:

Insurance agents who have the authority to execute a surety bond.

CATEGORIES OF RECORDS IN THE SYSTEM INCLUDE:

Records that identify individuals authorized to execute bonds for surety companies.

AUTHORITY FOR MAINTENANCE OF THE SYSTEM:

15 U.S.C. 634(b)(6) and 44 U.S.C. 3101.

ROUTINE USES OF RECORDS MAINTAINED IN THE SYSTEM, INCLUDING CATEGORIES OF USERS AND THE PURPOSES OF SUCH USES, THESE RECORDS MAY BE USED, DISCLOSED OR REFERRED:

a. To a Congressional office from an individual's record, when that office is inquiring on the individual's behalf; the Member's access rights are no greater than the individual's.

b. To SBA volunteers, contractors, interns, grantees, and experts who have been engaged by SBA to assist in the performance of a service related to this system of records and who need access to the records in order to perform this activity. Recipients of these records shall be required to comply with the requirements of the Privacy Act of 1974, as amended, 5 U.S.C. 552a.

c. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

d. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

e. To appropriate agencies, entities, and persons when: SBA suspects or has confirmed that the security or confidentiality of information in the system records has been compromised; SBA has determined that as a result of the suspected or confirmed compromise there is a risk of harm to economic or property interests, identity theft or fraud, or harm to the security or integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORING, RETRIEVING, ACCESSING, RETAINING AND DISPOSING OF RECORDS:

STORAGE:

Paper and electronic files.

RETRIEVAL:

By agent and broker name.

SAFEGUARDS:

Access and use limited to persons with an official need to know; personnel screening and computer passwords used to prevent unauthorized disclosure.

RETENTION AND DISPOSAL:

In accordance with SOP 00 41 2 Item No. 50:21.

SYSTEM MANAGER(S) AND ADDRESSES:

Field Office Systems Managers. See Appendix A.

NOTIFICATION PROCEDURES:

Individuals may make record inquiries in person or in writing to the Systems Manager or PA Officer.

ACCESS PROCEDURES:

Systems Manager or PA Officer will determine procedures.

CONTESTING PROCEDURES:

Notify officials listed above and state reason(s) for contesting and proposed amendment(s) sought.

SOURCE CATEGORIES:

Authorizing surety company.

SBA 27

SYSTEM NAME:

EMPLOYEE MISCONDUCT FILES—SBA 27

SYSTEM LOCATION:

Office of the Inspector General (OIG), Investigations Division Offices, Headquarters duty stations in the field and Federal Record Center. See Appendix for SBA addresses.

CATEGORIES OF INDIVIDUALS COVERED BY THE SYSTEM INCLUDES:

Active SBA employees that are subjects of investigations involving alleged administrative violations or irregularities that may warrant administrative disciplinary action. Inactive SBA employees that are subject of Workers' Compensation Investigations.

CATEGORIES OF RECORDS IN THE SYSTEM INCLUDES:

Material gathered or created during preparation for, conduct of and follow-up on investigations conducted by OIG, the Federal Bureau of Investigation (FBI) and other Federal, State, local or foreign regulatory or law enforcement agencies as well as other material submitted to or gathered by OIG in furtherance of its investigative function. These records include FBI and other Federal, State, local and foreign regulatory or law enforcement investigative reports, personal history statements, background character checks, field investigations, arrest and conviction records, parole and probation data, recommendations and related correspondence.

AUTHORITY FOR MAINTENANCE OF THE SYSTEM:

5 U.S.C. APP. 3 (The Inspector General Act of 1978, as amended), 15 U.S.C. Chapters 14A and 14B; 44 U.S.C. 3101.

ROUTINE USES OF RECORDS MAINTAINED IN THE SYSTEM, INCLUDING CATEGORIES OF USERS AND THE PURPOSES OF SUCH USES, THESE RECORDS MAY BE USED, DISCLOSED OR REFERRED:

a. To the Federal, State, local or foreign agency or professional organization which investigates, prosecutes or enforces violations, statutes, rules, regulations or orders issued when the Agency identifies a violation or potential violation of law whether arising by general or program statute, or by regulation, rule or order.

b. To a grand jury, court, magistrate, administrative tribunal, or to opposing counsel in the course of hearings, trials or settlement negotiations.

c. To any private or governmental source or person to secure information relevant to an investigation or audit.

d. To other Federal agencies conducting background checks, to the extent the information is relevant to their function.

e. To any Federal, state, local, foreign, international, private agency or organization for the hiring or retention of an individual, issuance of a security clearance, reporting of an investigation of an individual, letting of a contract or issuance of a license, grant or other benefit, to the extent the information is relevant to their decision on the matter.

f. To Federal, State or local bar associations and other professional regulatory or disciplinary bodies for use in disciplinary proceedings and inquiries.

g. To a Congressional office from an individual's record, when that office is inquiring on the individual's behalf; the Member's access rights are no greater than the individual's.

h. To SBA volunteers, contractors, interns, grantees, experts and who have been engaged by SBA to assist in the performance of a service related to this system of records and who need access to the records in order to perform this activity. Recipients of these records shall be required to comply with the requirements of the Privacy Act of 1974, as amended, 5 U.S.C. 552a.

i. To the Office of Government Ethics or the Office of Personnel Management for any purpose consistent with their respective missions.

j. To the Government Accountability Office and to the General Service Administration's Board of Contract Appeals in bid protest cases involving an agency procurement.

k. To any Federal agency which has the authority to subpoena other Federal agencies' records and has issued a valid subpoena.

l. To the Department of the Treasury and the Department of Justice (DOJ) when an agency is seeking an ex parte court order to obtain taxpayer information from the Internal Revenue Service.

m. To debt collection contractors collecting delinquent taxes authorized by the Debt Collection Act of 1982, 31 U.S.C. 3718.

n. To third parties during the course of an investigation to the extent necessary to obtain information pertinent to the investigation.

o. To a grand jury agent pursuant to a Federal or State grand jury subpoena or to a prosecution request that records be introduced to a grand jury.

p. To DOJ to obtain advice regarding FOIA disclosure obligations.

q. To the Office of Management and Budget to obtain that advice regarding PA obligations.

r. To members of the President's Council on Integrity and Efficiency, DOJ or other agencies for the purpose of conducting qualitative reviews of SBA OIG operations for the preparation of reports to the President and Congress on the activities of the Inspectors General, and for other uses in furtherance of the Inspector General Act of 1978, as amended.

s. To DOJ when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

t. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

u. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORING, RETRIEVING, ACCESSING, RETAINING AND DISPOSING OF RECORDS:

STORAGE:

Rotary diebold power files, file cabinets and electronic systems.

RETRIEVAL:

By name and referenced to the number of the IG file(s) containing related material.

SAFEGUARDS:

Records are stored in locked filing cabinets or in filing cabinets located in locked rooms. Access and use limited to persons with official need to know; computers are protected by password and user identification codes.

RETENTION AND DISPOSAL:

In accordance with Standard Operating Procedure 00 41.

SYSTEM MANAGER(S) AND ADDRESS:

Assistant Inspector General for Investigations or designee. See Appendix A.

NOTIFICATION PROCEDURE:

Individuals may make record inquiries in person or in writing to the Systems Manager or PA Officer.

ACCESS PROCEDURES:

Assistant Inspector General for Investigations or PA Officer will determine procedures.

CONTESTING PROCEDURES:

Notify officials listed above and state reason(s) for contesting and proposed amendment(s) sought.

SOURCE CATEGORIES:

Subject individual, SBA personnel, informants, and investigative Government agencies, such as the FBI.

SYSTEMS EXEMPTED FROM CERTAIN PROVISIONS OF THE ACT:

(1) Pursuant to 5 U.S.C. 552a(j)(2), this system of records is exempt from the application of all provisions of section 552a except sections (b), (c)(1) and (2), (e)(4)(A) through (F), (e)(6), (7), (9), (10), (11), and (i), to the extent that it consists of (A) information compiled for the purpose of identifying individual criminal offenders and alleged offenders and consisting only of identifying data and notations of arrests, confinement, release, and parole and probation status; (B) information compiled for the purpose of criminal investigation, including reports of informants and investigators, and associated with an identifiable individual; or (C) reports identifiable to an individual compiled at any stage of the process of enforcement of the criminal laws from arrest or indictment through release from supervision. This system is exempted in order to maintain the efficacy and integrity of the OIG's criminal law enforcement function.

(2) Pursuant to 5 U.S.C. 552(a)(k)(2) and (k)(5), all investigatory material in the record compiled for law enforcement purposes or for the purpose of determining suitability, eligibility, or qualifications for Federal civilian employment, Federal contracts, or access to classified information is exempt from the notification, access, and contest requirements under 5 U.S.C. 552a (c)(3), (d), (e)(1), (e)(4) (G), (H), and (I), and (f) of the Agency regulations. This exemption is necessary in order to fulfill commitments made to protect the confidentiality of sources and to protect subjects of investigations from frustrating the investigatory process.

SBA 28

SYSTEM NAME:

SMALL BUSINESS PERSON AND ADVOCATE AWARDS—SBA 28

SYSTEM LOCATION:

Headquarters (HQ) and Field Offices. See Appendix A.

CATEGORIES OF INDIVIDUALS COVERED BY THE SYSTEM INCLUDES:

Candidates and winners of the Small Business Person of the Year, Advocate, Minority Small Business Person and Phoenix Awards.

CATEGORIES OF RECORDS IN THE SYSTEM INCLUDES:

Information regarding the candidacy and selection of Small Business Person of the Year, Minority Small Business Person and Advocate of the Year, applications, biographical summaries, correspondence, recommendations and narratives. Records of Community Development Awards in HQ include biographical and qualifying information and recommendations from field offices.

AUTHORITY FOR MAINTENANCE OF THE SYSTEM:

15 U.S.C. 634(b)(6), 44 U.S.C. 3101.

ROUTINE USES OF RECORDS MAINTAINED IN THE SYSTEM, INCLUDING CATEGORIES OF USERS AND THE PURPOSES OF SUCH USES, THESE RECORDS MAY BE USED, DISCLOSED OR REFERRED:

a. To the news media for public disclosure of the name, address, and biography of award recipients.

b. To communicate with State and local governments about the status of a particular candidate.

c. To a Congressional office from an individual's record, when that office is inquiring on the individual's behalf; the Member's access rights are no greater than the individual's.

d. To SBA volunteers, contractors, interns, grantees, experts and who have been engaged by SBA to assist in the performance of a service related to this system of records and who need access to the records in order to perform this activity. Recipients of these records shall be required to comply with the requirements of the Privacy Act of 1974, as amended, 5 U.S.C. 552a.

e. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

f. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

g. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORING, RETRIEVING, ACCESSING, RETAINING AND DISPOSING OF RECORDS:

STORAGE:

Paper and electronic files.

RETRIEVAL:

By individual name.

SAFEGUARDS:

Access and use limited to persons with official need to know; computers are protected by password and user identification codes.

RETENTION AND DISPOSAL:

In accordance with National Archives and Records Administration General Records Schedule 16.8.

SYSTEM MANAGER(S) AND ADDRESS:

Field Office Systems Managers. See Appendix A.

NOTIFICATION PROCEDURES:

Individuals may make record inquiries in person or in writing to the Systems Manager or PA Officer.

ACCESS PROCEDURES:

Systems Manager or PA Officer will determine procedures.

CONTESTING PROCEDURES:

Notify officials listed above and state reason(s) for contesting and proposed amendment(s) sought.

SOURCE CATEGORY:

Subject individual, individual sponsors, Advisory Council members, Agency personnel, research publications, directories and news media.

SBA 29

SYSTEM NAME:

STANDARDS OF CONDUCT FILES—SBA 29

SYSTEM LOCATION:

Headquarters (HQ), Office of the Inspector General (OIG) and Field Offices. See Appendix A.

CATEGORIES OF INDIVIDUALS COVERED BY THE SYSTEM:

SBA employees.

CATEGORIES OF RECORDS IN THE SYSTEM INCLUDES:

Confidential employment and financial statements of employees Grade 13 and above, Grade 12 Branch Managers and other designated individuals. Ad Hoc Committee decisions and memoranda concerning standards of conduct questions used as precedent for later decisions (HQ only). Correspondence concerning conflicts of interest. List of all SBA employees who have been indicted or convicted in matters involving SBA business.

AUTHORITY FOR MAINTENANCE OF THE SYSTEM:

13 CFR 105 Sections 101 and 401.

ROUTINE USES OF RECORDS MAINTAINED IN THE SYSTEM, INCLUDING CATEGORIES OF USERS AND THE PURPOSES OF SUCH USES, THESE RECORDS MAY BE USED, DISCLOSED OR REFERRED:

a. To the Federal, State, local or foreign agency or professional organization which investigates, prosecutes or enforces violations, statutes, rules, regulations or orders issued when the Agency identifies a violation or potential violation of law whether arising by general or program statute, or by regulation, rule or order.

b. To a court, magistrate, grand jury or administrative tribunal, opposing counsel during such proceedings or in settlement negotiations when presenting evidence.

c. To the Office of Personnel Management when requested.

d. To a Congressional office from an individual's record, when that office is inquiring on the individual's behalf; the Member's access rights are no greater than the individual's.

e. To SBA volunteers, contractors, interns, grantees, experts and who have been engaged by SBA to assist in the performance of a service related to this system of records and who need access to the records in order to perform this activity. Recipients of these records shall be required to comply with the requirements of the Privacy Act of 1974, as amended, 5 U.S.C. 552a.

f. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

g. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

h. To appropriate agencies, entities, and persons when: SBA suspects or has confirmed that the security or confidentiality of information in the system records has been compromised; SBA has determined that as a result of the suspected or confirmed compromise there is a risk of harm to economic or property interests, identity theft or fraud, or harm to the security or integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORING, RETRIEVING, ACCESSING, RETAINING AND DISPOSING OF RECORDS:

STORAGE:

Paper and electronic files.

RETRIEVAL:

By employee name and/or Social Security Number.

SAFEGUARDS:

Access strictly limited to those employees with an official need to know; computers secured by passwords and user identification codes.

RETENTION AND DISPOSAL:

In accordance with National Archives and Records Administration General Records Schedule 1.1.

SYSTEM MANAGER(S) AND ADDRESS:

Office of Human Capital Management, OIG, PA Officer and Field Office Directors. See Appendix A.

NOTIFICATION PROCEDURES:

Individuals may make record inquiries in person or in writing to the Systems Manager or PA Officer.

ACCESS PROCEDURES:

Systems Manager or PA Officer will determine procedures.

CONTESTING PROCEDURES:

Notify officials listed above and state reason(s) for contesting and proposed amendment(s) sought.

SOURCE CATEGORIES:

Confidential statement of employment and financial interests by the employee. Adverse information could come from other employees or a member of the general public with specific knowledge of the matter reported.

SYSTEMS EXEMPTED FROM CERTAIN PROVISIONS OF THE ACT:

Pursuant to 5 U.S.C. 552a(k)(5), all investigatory material in the record compiled for the purpose of determining suitability, eligibility, or qualifications for Federal civilian employment, Federal contracts, or access to classified information is exempt from the notification, access, and contest requirements under 5 U.S.C. 552a (c)(3), (d), (e)(1), (e)(4)(G), (H), and (I), and (f) of the Agency regulations. This exemption is necessary in order to fulfill communications made to protect the confidentiality of sources and maintain access to sources necessary in making determinations of suitability.

SBA 30

SYSTEM NAME:

SERVICING AND CONTRACTS SYSTEM/MINORITY ENTERPRISE DEVELOPMENT HEADQUARTERS REPOSITORY—SBA 30

SYSTEM LOCATION:

Headquarters and Field Offices. See Appendix A.

CATEGORIES OF INDIVIDUALS COVERED BY THE SYSTEM INCLUDE:

Applicants and program participants in SBA's 8(a) Business Development program.

CATEGORIES OF RECORDS IN THE SYSTEM INCLUDE:

8(a) Business Development program applications, business development working files, business plan files and contract files containing personal and financial information.

AUTHORITY FOR MAINTENANCE OF THE SYSTEM:

Public Law 100-656, Small Business Act 15 U.S.C. 636, section (j) (Technical and Management Assistance); Public Law 100-656, 15 U.S.C. 637, section 8(a) (Business Development).

PURPOSE:

To collect confidential business and financial information used to determine if applicants and current 8(a) participants are in compliance with statutory and regulatory requirements for continued eligibility for program participation. This information facilitates the Agency in carrying out the functions of the Office of 8(a) Business Development.

ROUTINE USES OF RECORDS MAINTAINED IN THE SYSTEM, INCLUDING CATEGORIES OF USERS AND THE PURPOSES OF SUCH USES, THESE RECORDS MAY BE USED, DISCLOSED, OR REFERRED:

a. To a Congressional office from an individual's record, when that office is inquiring on the individual's behalf; the Member's access rights are no greater than the individual's.

b. To SBA volunteers, contractors, interns, grantees, experts and who have been engaged by SBA to assist in the performance of a service related to this system of records and who need access to the records in order to perform this activity. Recipients of these records shall be required to comply with the requirements of the Privacy Act of 1974, as amended, 5 U.S.C. 552a.

c. To the Federal, state, local or foreign agency or professional organization which investigates, prosecutes, or enforces violation or potential violation of law, arising by general or program statute, or by regulation, rule, or order.

d. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

e. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

f. To appropriate agencies, entities, and persons when: SBA suspects or has confirmed that the security or confidentiality of information in the system records has been compromised; SBA has determined that as a result of the suspected or confirmed compromise there is a risk of harm to economic or property interests, identity theft or fraud, or harm to the security or integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORAGE, RETRIEVAL, ACCESS, RETENTION AND DISPOSAL OF RECORDS:

STORAGE:

Electronic database records reside on SBA secured mainframe system.

RETRIEVAL:

Name of individual and business name.

SAFEGUARDS:

Access and use is limited to persons whose official duties designate such a need; personnel screening by password is used to prevent unauthorized disclosure.

RETENTION AND DISPOSAL:

In accordance with SACS/MEDHR NI-309-03-4.

SYSTEM MANAGER(S) AND ADDRESS:

PA Officer, Associate Administrator for 8(a) Business Development and the Field Office Systems Manager. See Appendix A.

NOTIFICATION PROCEDURES:

Individuals may make record inquiries in person or in writing to the Systems Manager or PA Officer.

ACCESS PROCEDURES:

PA Officer or Field Office Systems Manager will determine procedures.

CONTESTING PROCEDURES:

Notify officials listed above and state reason(s) for contesting and proposed amendment(s) sought.

RECORD SOURCE CATEGORIES:

Small business applicants or participants in the 8(a) Business Development program.

SBA 31

SYSTEM NAME:

TEMPORARY DISASTER EMPLOYEES—SBA 31

SYSTEM LOCATION:

Office of Disaster Assistance: HQ and Field locations. See Appendix A.

CATEGORIES OF INDIVIDUALS COVERED BY THE SYSTEM:

Employees who have been temporarily employed by the ODA.

CATEGORIES OF RECORDS IN THE SYSTEM INCLUDES:

Name, address, telephone number, Social Security Number (SSN), Disaster Area, job series, grade and title, dates of employment, reason for termination, supervisor's name and job and summary of supervisor's evaluation. Possible violations of the Agency's Standards of Conduct (13 CFR Part 105) and information, if any, concerning official investigations and disciplinary actions taken.

AUTHORITY FOR MAINTENANCE OF THE SYSTEM:

15 U.S.C. 634(b)(6), 44 U.S.C. 101.

ROUTINE USES OF RECORDS MAINTAINED IN THE SYSTEM, INCLUDING CATEGORIES OF USERS AND THE PURPOSES OF SUCH USES, THESE RECORDS MAY BE USED, DISCLOSED, OR REFERRED:

a. To verify previous employment with SBA when a former employee is considered for reemployment.

b. To locate current or former employees with special skills or language capabilities needed in specific situations.

c. To a Congressional office from an individual's record, when that office is inquiring on the individual's behalf; the Member's access rights are no greater than the individual's.

d. To SBA volunteers, contractors, interns, grantees, experts and who have been engaged by SBA to assist in the performance of a service related to this system of records and who need access to the records in order to perform this activity. Recipients of these records shall be required to comply with the requirements of the Privacy Act of 1974, as amended, 5 U.S.C. 552a.

e. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

f. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

g. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORAGE, RETRIEVAL, ACCESS, RETENTION AND DISPOSAL OF RECORDS:

STORAGE:

Paper and electronic files.

RETRIEVAL:

By name and/or SSN.

SAFEGUARDS:

Access and use limited to persons with official need to know; computers are protected by password and user identification codes.

RETENTION AND DISPOSAL:

In accordance with National Records and Archives Administration General Records Schedule 1.10.

SYSTEM MANAGER(S) AND ADDRESS:

Assistant Administrator for Disaster Assistance. See Appendix A.

NOTIFICATION PROCEDURE:

Individuals may make record inquiries in person or in writing to the Systems Manager or PA Officer.

ACCESS PROCEDURES:

Systems Manager or PA Officer will determine procedures.

CONTESTING PROCEDURES:

Notify officials listed above and state reason(s) for contesting and proposed amendment(s) sought.

SOURCE CATEGORIES:

Disaster Loan Making Centers.

SBA 32

SYSTEM NAME:

TORT CLAIMS—SBA 32

SYSTEM LOCATION:

Headquarters (HQ), Field Offices, Disaster Loan Making Centers (DLMC) and Federal Records Center (FRC). See Appendix A for SBA addresses.

CATEGORIES OF INDIVIDUALS COVERED BY THE SYSTEM INCLUDES:

Government employees and other individuals involved in accidents.

CATEGORIES OF RECORDS IN THE SYSTEM INCLUDES:

Contains reports on accidents which result in tort claims involving the Government.

AUTHORITY FOR MAINTENANCE OF THE SYSTEM:

44 U.S.C. 3101, 42 U.S.C. 3211.

ROUTINE USES OF RECORDS MAINTAINED IN THE SYSTEM, INCLUDING CATEGORIES OF USERS AND THE PURPOSES OF SUCH USES, THESE RECORDS MAY BE USED, DISCLOSED, OR REFERRED:

a. To the Department of Justice (DOJ) for handling of the suit and the preparation and presentation of the case in the event that a tort claim results in a court suit.

b. To the General Services Administration for reporting on accidents and tort claims.

c. To a rental car company responsible for personal injuries and property damage.

d. To a Congressional office from an individual's record, when that office is inquiring on the individual's behalf; the Member's access rights are no greater than the individual's.

e. To SBA volunteers, contractors, interns, grantees, experts and who have been engaged by SBA to assist in the performance of a service related to this system of records and who need access to the records in order to perform this activity. Recipients of these records shall be required to comply with the requirements of the Privacy Act of 1974, as amended, 5 U.S.C. 552a.

f. To DOJ when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

g. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

h. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORAGE, RETRIEVAL, ACCESS, RETENTION AND DISPOSAL OF RECORDS:

STORAGE:

Paper and electronic files.

RETRIEVAL:

Name of government employee or involved individual(s).

SAFEGUARDS:

Locked cabinets. Access and use limited to persons with official need to know; computers are protected by password and user identification codes.

RETENTION AND DISPOSAL:

In accordance with National Archives and Records Administration General Records Schedule 6.10.

SYSTEM MANAGER(S) AND ADDRESS:

Field Office Systems Manager or DLMC Director. See Appendix A.

NOTIFICATION PROCEDURES:

Individuals may make record inquiries in person or in writing to the Systems Manager or PA Officer.

ACCESS PROCEDURES:

Systems Manager or PA Officer will determine procedures.

CONTESTING PROCEDURES:

Notify officials listed above and state reason(s) for contesting and proposed amendment(s) sought.

SOURCE CATEGORIES:

Individuals involved in accident, witnesses, investigation of the accident.

SBA 33

SYSTEM NAME:

TRAVEL FILES—SBA 33

SYSTEM LOCATION:

All SBA offices, Denver Financial Center and Federal Records Center. See Appendix A.

CATEGORIES OF INDIVIDUALS COVERED BY THE SYSTEM:

SBA employees.

CATEGORIES OF RECORDS IN THE SYSTEM INCLUDES:

Employee travel vouchers.

AUTHORITY FOR MAINTENANCE OF THE SYSTEM:

15 U.S.C. 634(b)(6), 44 U.S.C. 3101.

ROUTINE USES OF RECORDS MAINTAINED IN THE SYSTEM, INCLUDING CATEGORIES OF USERS AND THE PURPOSES OF SUCH USES, THESE RECORDS MAY BE USED, DISCLOSED, OR REFERRED:

a. To the appropriate Federal, State, local or foreign agency or professional organization which has responsibility for investigating, prosecuting or enforcing violations, statutes, rules, regulations or orders issued when the Agency identifies a violation or potential violation of law arising by general or program statute, by regulation, rule or order.

b. To a Congressional office from an individual's record, when that office is inquiring on the individual's behalf; the Member's access rights are no greater than the individual's.

c. To SBA volunteers, contractors, interns, grantees, experts and who have been engaged by SBA to assist in the performance of a service related to this system of records and who need access to the records in order to perform this activity. Recipients of these records shall be required to comply with the requirements of the Privacy Act of 1974, as amended, 5 U.S.C. 552a.

d. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

e. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

f. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORAGE, RETRIEVAL, ACCESS, RETENTION AND DISPOSAL OF RECORDS:

STORAGE:

Paper and electronic files.

RETRIEVAL:

By employee name.

SAFEGUARDS:

Access and use limited to persons with official need to know; computers are protected by passwords and user identification codes.

RETENTION AND DISPOSAL:

Records are maintained according to National Archives and Records Administration's General Record Schedule 6.1.a.

SYSTEM MANAGER(S) AND ADDRESS:

Chief Financial Officer. See Appendix A for address.

NOTIFICATION PROCEDURES:

Individuals may make record inquiries in person or in writing to the Systems Manager or PA Officer.

ACCESS PROCEDURES:

System Manager or PA Officer will determine procedures.

CONTESTING PROCEDURES:

Notify officials listed above and state reason(s) for contesting and proposed amendment(s) sought.

SOURCE CATEGORIES:

Employees Travel Vouchers.

SBA 34

SYSTEM NAME:

IDENTITY MANAGEMENT SYSTEM—SBA 34

SYSTEM LOCATION:

Headquarters (HQ), contractor provided hosted facility. (see Appendix A).

CATEGORIES OF INDIVIDUALS COVERED BY THE SYSTEM INCLUDES:

Individuals who require regular, ongoing access to SBA facilities, including, applicants for employment or contracts, federal employees, contractors, students, interns, volunteers, and individuals authorized to perform or use services provided in SBA facilities (e.g., Credit Union, Fitness Center, etc.). The system does not apply to occasional visitors or short-term guests to whom SBA will issue temporary identification and credentials.

CATEGORIES OF RECORDS IN THE SYSTEM:

Full name, social security number; date of birth; signature; image (photograph); fingerprints; hair color; eye color; height; weight; organization/office of assignment; company name; telephone number; copy of background investigation form; personal addresses for past 5 years; high school and college attended (as applicable); Card Holder Unique Identification Number; Personal Identification Number; Personal Identity Verification (PIV) enrollment package; PIV card issue and expiration dates; personal identification number; results of background investigation; PIV request form; PIV registrar approval signature; PIV card serial number; emergency responder designation; PIV card expiration date; copies of documents used to verify identification or information derived from those documents; level of national security clearance and expiration date; computer system user name; user access and permission rights, authentication certificates; digital signature information; National Agency Check with Written Inquiries investigation; fingerprint check; National Criminal History Name Check, information technology systems, or information classified in the interest of national security.

AUTHORITY FOR MAINTENANCE OF THE SYSTEM:

5 U.S.C. 301; Federal Information Security Act (Pub. L. 104-106, sec. 5113), Electronic Government Act (Pub. L. 104-347, sec. 203), Paperwork Reduction Act of 1995 (44 U.S.C. 3501), Government Paperwork Elimination Act (Pub. L. 105-277, 44 U.S.C. 3504), Homeland Security Presidential Directive 12, Federal Property and Administrative Act of 1949, as amended.

ROUTINE USES OF RECORDS MAINTAINED IN THE SYSTEM INCLUDING CATEGORIES OF USERS AND THE PURPOSES OF SUCH USES, THESE RECORDS MAY BE USED, DISCLOSED OR REFERRED:

a. To National Archives and Records Administration or to the General Services Administration for records management inspections conducted under 44 U.S.C. 2904 and 2906.

b. To a Congressional office from an individual's record, when that office is inquiring on the individual's behalf; the Member's access rights are no greater than the individual's.

c. To SBA volunteers, contractors, interns, grantees, experts and who have been engaged by SBA to assist in the performance of a service related to this system of records and who need access to the records in order to perform this activity. Recipients of these records shall be required to comply with the requirements of the Privacy Act of 1974, as amended, 5 U.S.C. 552a.

d. To a Federal, State, local, foreign, or tribal or other public authority of the fact that this system of records contains information relevant to the retention of an employee, the retention of a security clearance, the letting of a contract, or the issuance or retention of a license, grant, or other benefit with appropriate restrictions on further disclosure.

e. To the Office of Management and Budget (OMB) when necessary for the review of private relief legislation pursuant to OMB Circular No. A-19.

f. To a Federal, State, or local agency, or other appropriate entities or individuals, or through established liaison channels to selected foreign governments, in order to enable an intelligence agency to carry out its responsibilities under the National Security Act of 1947 as amended, the CIA Act of 1949 as amended, Executive Order 12333 or any successor order, applicable national security directives, or classified implementing procedures approved by the Attorney General and promulgated pursuant to such statutes, orders or directives.

g. To notify another Federal agency when, or verify whether a PIV card is no longer valid.

h. To a supervisor or manager in order to verify employee time and attendance record for personnel actions. Note: Disclosures within SBA of data pertaining to date and time of entry and exit of an agency employee working in the District of Columbia may not be made to supervisors, managers or any other persons (other than the individual to whom the information applies) to verify the employee time and attendance record for personnel actions because 5 U.S.C. 6106 prohibits Federal Executive agencies (other than the Bureau of Engraving and Printing) from using a recording within the District of Columbia, unless used as a part of a flexible schedule program under 5 U.S.C. 6120 et seq.

i. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

j. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

k. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORING, RETRIEVING, ACCESSING, RETAINING, AND DISPOSING OF RECORDS:

STORAGE:

Records are stored in electronic media and in paper files and not on the card.

RETRIEVABILITY:

Records are retrievable by name, social security number, PIV card serial number, or Card Holder Unique Identification Number.

SAFEGUARDS:

Paper records are kept in locked cabinets in secure facilities, access is restricted to individuals whose role requires use of the records. Access to facilities will be controlled by the PIV card, the System requires a PIV card to log on and to digitally sign transactions. The computer servers storing the records are located in facilities that are secured by alarm systems and off-master key access. The computer servers are password-protected. Access to individuals working at guard stations is password-protected; each person granted access to the system at guard stations must be individually authorized to use the system. A Privacy Act Warning Notice appears on the monitor screen when PIV records are first displayed. Data exchanged between the servers and the client PCs at the guard stations and badging office are encrypted. Backup tapes are stored in a locked and controlled room in a secure, off-site location. An audit trail is maintained and reviewed periodically to identify unauthorized access. Persons given roles in the PIV process must complete training specific to their roles to ensure their knowledge about how to protect individually identifiable information. The system uses the high risk confidentiality and integrity security controls specified in the National Institute of Standards and Technology Special Publication 800-53.

RETENTION AND DISPOSAL:

Records relating to persons covered by this system are retained in accordance with General Records Schedule 18, Item 17. Unless retained for specific, ongoing security investigations, for maximum security facilities, records of access are maintained for five years and then destroyed by wiping hard drives and shredding paper. For other facilities, records are maintained for two years and then destroyed by wiping hard drives and shredding paper. All other records relating to employees are destroyed two years after ID security card expiration date. In accordance with FIPS 201-1, PIV Cards are deactivated within 18 hours of cardholder separation, notification of loss of card, or expiration. The information on PIV Cards is maintained in accordance with General Records Schedule 11, Item 4. PIV Cards that are turned in for destruction are shredded within 90 days.

SYSTEM MANAGER(S) AND ADDRESSES:

Assistant Administrator/Human Capital Management, Associate Administrator/Disaster Assistance, or designees, PA Officer. See Appendix A.

NOTIFICATION PROCEDURES:

An individual may submit a record inquiry either in person or in writing to the System Manager or the PA Officer. When requesting notification of or access to records, an individual should provide their full name, date of birth, and work location. Individuals requesting notification of records in person must provide identity documents sufficient to satisfy the custodian of the records that the requester is entitled to access, such as a government-issued photo ID. Individuals requesting notification via mail or telephone must furnish, at minimum, name, date of birth, social security number, and home address in order to establish identity.

ACCESS PROCEDURES:

System Manager or PA Officer will determine procedures.

CONTESTING PROCEDURES:

Notify officials listed above and state reason(s) for contesting and proposed amendment(s) sought.

SOURCE CATEGORIES:

Employee, contractor, or applicant; sponsoring SBA; former sponsoring SBA; other Federal agencies; contract employer; former employer.

SBA 35

SYSTEM NAME:

NON-EMPLOYMENT RELATED BACKGROUND CHECKS—SBA 35

SYSTEM LOCATION:

Office of Inspector General (OIG), Investigations Division, Office of Security Operations. See Appendix A.

CATEGORIES OF INDIVIDUALS COVERED BY THE SYSTEM INCLUDES:

Applicants for SBA loans or other assistance.

CATEGORIES OF RECORDS IN THE SYSTEM INCLUDES:

Information about applicants for SBA loans or other assistance or recognition, including application forms, such as SBA Form 912 and related fingerprint cards, criminal history and other records checks and correspondence concerning background.

AUTHORITY FOR MAINTENANCE OF THE SYSTEM:

5 U.S.C. App. 3 (The Inspector General Act of 1978, as amended); 15 U.S.C. Chapters 14A and 14B, and 44 U.S.C. 3101.

ROUTINE USES OF RECORDS MAINTAINED IN THE SYSTEM, INCLUDING CATEGORIES OF USERS AND THE PURPOSES OF SUCH USES, THESE RECORDS MAY BE USED, DISCLOSED OR REFERRED:

a. To the Federal Bureau of Investigation (FBI) and other agencies, for the purpose of obtaining criminal history records and other information relevant to determining applicant suitability.

b. To the Federal, State, local or foreign agency or professional organization which investigates, prosecutes or enforces violations, statutes, rules, regulations or orders issued when the Agency identifies a violation or potential violation of law whether arising by general or program statute, or by regulation, rule or order.

c. To other Federal Agencies, upon request, that are conducting background checks.

d. To a court, magistrate judge, grand jury or administrative tribunal, opposing counsel during such proceedings or in settlement negotiations when presenting evidence.

e. To a Congressional office from an individual's record, when that office is inquiring on the individual's behalf; the Member's access rights are no greater than the individual's.

f. To SBA volunteers, contractors, interns, grantees, experts and who have been engaged by SBA to assist in the performance of a service related to this system of records and who need access to the records in order to perform this activity. Recipients of these records shall be required to comply with the requirements of the Privacy Act of 1974, as amended, 5 U.S.C. 552a.

g. To any Federal, State, local, foreign or international agency, in connection with their assignment, hiring or retention of an individual, issuance of a security clearance, reporting of an investigation of an individual, letting of a contract or issuance of a license, grant or other benefit, to the extent the information is relevant to their decision on the matter.

h. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

i. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

j. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

k. To members of the President's Council on Integrity and Efficiency, DOJ or other agencies for the purpose of conducting qualitative reviews of SBA OIG operations for the preparation of reports to the President and Congress on the activities of the Inspectors General, and for other uses in furtherance of the Inspector General Act of 1978, as amended.

POLICIES AND PRACTICES FOR STORING, RETRIEVING, ACCESSING, RETAINING AND DISPOSING OF RECORDS:

STORAGE:

Rotary diebold power files and electronic data systems.

RETRIEVAL:

By applicant name and/or Social Security number.

SAFEGUARDS:

All file cabinets are locked. Access and use limited to persons with official need to know; computers are protected by password and user identification codes.

RETENTION AND DISPOSAL:

In accordance with SOP 00 41.

SYSTEM MANAGER(S) AND ADDRESS:

Assistant Inspector General for Investigations or designee. See Appendix A.

NOTIFICATION PROCEDURES:

Individuals may make record inquiries in person or in writing to the Systems Manager or PA Officer.

ACCESS PROCEDURES:

Assistant Inspector General for Investigations or designee.

CONTESTING PROCEDURES:

Notify officials listed above and state reason(s) for contesting and proposed amendment(s) sought.

SOURCE CATEGORIES:

Person(s) applying for SBA loans or other assistance, other federal agencies, including the FBI, and SBA personnel.

SYSTEMS EXEMPTED FROM CERTAIN PROVISIONS OF THE ACT:

Pursuant to 5 U.S.C. 552a(j)(2), records in this system of records are exempt from the application of all provisions of section 552a except sections (b), (c)(1) and (2), (e)(4)(A) through (F), (e)(6), (7), (9), (10), (11), and (i), to the extent that it consists of (A) information compiled for the purpose of identifying individual criminal offenders and alleged offenders and consisting only of identifying data and notations of arrests, confinement, release, and parole and probation status; (B) information compiled for the purpose of criminal investigation, including reports of informants and investigators, and associated with an identifiable individual; or (C) reports identifiable to an individual compiled at any stage of the process of enforcement of the criminal laws from arrest or indictment through release from supervision. This system is exempted in order to maintain the efficacy and integrity of the OIG's criminal law enforcement function.

SBA 36

SYSTEM NAME:

SUSPENSION AND DEBARMENT FILES—SBA 36

SYSTEM LOCATION:

Office of the Inspector General (OIG) Counsel Division. See Appendix A.

CATEGORIES OF INDIVIDUALS COVERED BY THE SYSTEM INCLUDES:

Individuals covered by the system include the individuals or entities who have been considered for suspension and/or debarment, recommended for suspension and/or debarment, or formally suspended and/or debarred, persons providing information used by the recommending person or the suspending/debarring officials.

CATEGORIES OF RECORDS IN THE SYSTEM INCLUDES:

Records consist of materials compiled from investigations and/or audits which identify violations which may be cause for suspension or debarment pursuant to the Federal Acquisition Regulations or the government-wide non-procurement suspension and debarment regulations. These materials include indictments, information, plea agreements, judgments, loan agreements, contract documents, etc., that pertain to an individual's or entity's participation in government contracts, SBA loan programs, and other SBA assistance.

AUTHORITY FOR MAINTENANCE OF THE SYSTEMS:

5 U.S.C. App. 3 (the Inspector General Act of 1978, as amended); 15 U.S.C. Chapters 14A and 14B; and 44 U.S.C. 3101; 48 CFR Subpart 9.4 (procurement); 2 CFR Parts 180 and 2700 (non-procurement), and Executive Orders 12549 and 12682.

ROUTINE USES OF RECORDS MAINTAINED IN THE SYSTEM, INCLUDING CATEGORIES OF USERS AND THE PURPOSES OF SUCH USES, THESE RECORDS MAY BE USED, DISCLOSED OR REFERRED:

a. To the Federal, State, local, or foreign agency or professional organization which investigates, prosecutes or enforces violations, statutes, rules, regulations or orders issued when the Agency identifies a violation or potential violation of law whether arising by general or program statute, or by regulation, rule or order.

b. To a court, magistrate, grand jury or administrative tribunal, opposing counsel during such proceedings or in settlement negotiations when presenting evidence.

c. To any private or governmental source or person, to secure information relevant to a suspension or debarment action.

d. To any domestic, foreign, international or private agency or organization, including those which maintain civil, criminal or other enforcement information, for the assignment, hiring or retention of an individual, issuance of a security clearance, reporting of an investigation of an individual, letting of a contract or issuance of a license, grant or other benefit, to the extent the information is relevant to the agency's decision on the matter.

e. To Federal, State, or local bar associations and other professional, regulatory or disciplinary bodies for use in disciplinary proceedings and inquiries.

f. To a Congressional office from an individual's record, when that office is inquiring on the individual's behalf; the Member's access rights are no greater than the individual's.

g. To the Government Accountability Office and to the General Services Administration's Board of Contract Appeals in bid protest cases involving an agency procurement.

h. To any Federal agency which has the authority to subpoena other Federal agencies' records and has issued a valid subpoena.

i. To DOJ to obtain advice regarding FOIA disclosure obligations.

j. To the Office of Management and Budget to obtain advice regarding PA obligations.

k. To SBA volunteers, contractors, interns, grantees, experts and who have been engaged by SBA to assist in the performance of a service related to this system of records and who need access to the records in order to perform this activity. Recipients of these records shall be required to comply with the requirements of the Privacy Act of 1974, as amended, 5 U.S.C. 552a.

l. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

m. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

n. To appropriate agencies, entities, and persons when: SBA suspects or has confirmed that the security or confidentiality of information in the system records has been compromised; SBA has determined that as a result of the suspected or confirmed compromise there is a risk of harm to economic or property interests, identity theft or fraud, or harm to the security and integrity of this system or other systems or programs (whether maintained by the Agency or entity) that rely upon the compromised information; and the disclosure made to such agencies, entities and persons is reasonably necessary to assist in connection with SBA's efforts to respond to the suspected or confirmed compromise and prevent, minimize, or remedy such harm.

POLICIES AND PRACTICES FOR STORING, RETRIEVING, ACCESSING, RETAINING AND DISPOSING OF RECORDS:

STORAGE:

Paper and electronic files.

RETRIEVAL:

By name.

SAFEGUARDS:

Paper files are maintained in locked offices; computers are protected by password and user identification codes.

RETENTION AND DISPOSAL:

Following final agency action, records are maintained in accordance with SBA SOP 00 41.

SYSTEM MANAGER(S) AND ADDRESS:

Counsel to the Inspector General or designee. See Appendix A.

NOTIFICATION PROCEDURES:

An individual may submit a record inquiry in writing to the Systems Manager or PA Officer.

ACCESS PROCEDURES:

Systems Manager or PA Officer will determine procedures.

CONTESTING PROCEDURES:

Notify officials listed above and state reason(s) for contesting and proposed amendment(s) sought.

SOURCE CATEGORIES:

OIG and/or Agency personnel, subject individuals or entities, third parties, and other investigative agencies.

SYSTEMS EXEMPTED FROM CERTAIN PROVISIONS OF THE ACT:

(1) Pursuant to 5 U.S.C. 552a(j)(2), this system of records is exempt from the application of all provisions of section 552a except sections (b), (c)(1) and (2), (e)(4)(A) through (F), (e)(6), (7), (9), (10), (11), and (i), to the extent that it consists of (A) information compiled for the purpose of identifying individual criminal offenders and alleged offenders and consisting only of identifying data and notations of arrests, confinement, release, and parole and probation status; (B) information compiled for the purpose of criminal investigation, including reports of informants and investigators, and associated with an identifiable individual; or (C) reports identifiable to an individual compiled at any stage of the process of enforcement of the criminal laws from arrest or indictment through release from supervision. This system is exempted in order to maintain the efficacy and integrity of the OIG's criminal law enforcement function.

(2) Pursuant to 5 U.S.C. 552a(k)(2) and (k)(5), all investigatory material in the record compiled for law enforcement purposes or for the purpose of determining suitability, eligibility, or qualifications for Federal civilian employment, Federal contracts, or access to classified information is exempt from the notification, access, and contest requirements under 5 U.S.C. 552a(c)(3), (d), (e)(1), (e)(4) (G), (H), and (I), and (f) of the Agency regulations. This exemption is necessary in order to fulfill commitments made to protect the confidentiality of sources and to protect subjects of investigations from frustrating the investigatory process.

Dated: March 20, 2009.
Delorice P. Ford,
Senior Privacy Act Official, Small Business Administration.

[FR Doc. E9-7050 Filed 3-31-09; 8:45 am]

BILLING CODE 8025-01-P